DEPARTMENT OF HOMELAND SECURITY

8 CFR Parts 103 and 235

[Docket No. USCBP-2020-0035]

RIN 1651-AB34 CBP Dec. No. 24-08

Harmonization of the Fees and Application Procedures for the Global Entry and SENTRI Programs and Other Changes

AGENCY: U.S. Customs and Border Protection (CBP), Department of Homeland Security (DHS).

ACTION: Final rule.

SUMMARY: This final rule amends DHS regulations regarding two CBP trusted traveler programs: Global Entry and Secure Electronic Network for Travelers Rapid Inspection (SENTRI). CBP is amending regulations to make the Global Entry and SENTRI application fees uniform, provide a uniform standard regarding payment of the Global Entry and SENTRI application fees for minors, change the fee payment schedule and certain aspects of the application process for SENTRI, and incorporate SENTRI-specific regulations into DHS regulations. CBP is also amending regulations to address Global Entry expansion to preclearance facilities and eliminate the dedicated commuter lane systems cost fee.

DATES: This rule is effective October 1, 2024.

FOR FURTHER INFORMATION CONTACT: Rafael E. Henry, Branch Chief, Office of Field Operations, (202) 344-3251, Rafael.E.Henry@cbp.dhs.gov.

SUPPLEMENTARY INFORMATION:

Table of Contents

I. Background

A. Notice of Proposed Rulemaking

B. Adoption of Proposed Changes as Final

II. Summary of Changes to the Global Entry and SENTRI Programs

A. Harmonizing the CBP Trusted Traveler Programs

1. Harmonization of the Global Entry and SENTRI Fees

2. Exemption of Certain Minors From Payments of the Application Fee

B. Establishment of New Regulation for the SENTRI Program

C. Additional Changes to the SENTRI Program

1. Changes to the Fee Payment Schedule for the SENTRI Program

2. Requirement for Electronic Submission of the SENTRI Program Application and Payment of Fees

D. Additional Changes to the Global Entry Program

1. 8 CFR 235.12(g)

2. 8 CFR 235.12(h)

3. Other Amendments to 8 CFR 235.12

E. Conforming Amendment to 8 CFR 103.7

III. Discussion of Comments Submitted in Response to the NPRM Proposing Changes To Harmonize the Global Entry and SENTRI Programs

A. Overview

B. Discussion of Comments

1. Comments Expressing General Support for the Rule

2. Comments Expressing General Opposition

3. Comments on Fee Structure

4. Comments on Expanding Fee Exemption for Certain Minors

5. Comments Opposing Waiver of Fees for Minor Applicants

6. Comments About Combining Global Entry, SENTRI, and NEXUS Trusted Traveler Programs

7. Comments Opposing NEXUS Fee Change

8. Comments on SENTRI Program Changes

9. Comments on Definition of Family for Fee Exemption

10. Miscellaneous Comments

IV. Statutory and Regulatory Requirements

A. Executive Orders 12866 and 13563

1. Purpose of the Rule

2. Background

3. Costs

4. Distributional Impacts

5. Total Monetized Decrease in Transfer Payments to U.S. Government

6. Total Monetized Increase in Transfer Payments to U.S. Government

7. Net Transfer Payments to U.S. Government

8. Benefits and Breakeven Analysis

B. Regulatory Flexibility Act

C. Unfunded Mandates Reform Act of 1995

D. Executive Order 13132

E. Paperwork Reduction Act

F. Privacy

I. Background

U.S. Customs and Border Protection (CBP) operates several trusted traveler programs at air, land, and sea ports of entry into the United States that provide certain pre-approved, low-risk travelers dedicated processing into the United States. Participants of CBP trusted traveler programs are vetted travelers who have voluntarily applied for membership, have paid a required fee, and have provided certain personal data to CBP. Travelers who are active participants in a CBP trusted traveler program are considered to be a lower risk than other travelers because CBP conducts vetting both when the participant applies to the program and on an ongoing basis after the applicant becomes an approved participant. This allows CBP to focus its attention and resources on higher-risk travelers. Three of these CBP trusted traveler programs are the Global Entry, Secure Electronic Network for Travelers Rapid Inspection (SENTRI),¹ and NEXUS programs.² The Global Entry program allows pre-approved, low-risk travelers dedicated CBP processing at designated airports, currently through the use of automated kiosks.³ The SENTRI program allows dedicated processing at specified land border ports along the U.S.-Mexico border for pre-approved travelers. The NEXUS program is a joint trusted traveler program between the United States and Canada, the details of which can be found at http://www.cbp.gov/travel/trusted-traveler-programs/nexus.

¹ SENTRI was previously governed by the Port Passenger Accelerated Service System (PORTPASS) regulations at 8 CFR 235.7, as discussed in further detail below.

² The Free and Secure Trade (FAST) program is another CBP trusted traveler program that allows pre-approved commercial truck drivers dedicated processing at select commercial ports of entry at the northern and southern land borders. This program has different vetting standards, is offered to a different type of traveler, and does not have the same benefits as the Global Entry, SENTRI, and NEXUS programs. TSA PreCheck is an additional Department of Homeland Security (DHS) trusted traveler program administered by the Transportation Security Administration (TSA).

³ CBP published an interpretive rule on August 29, 2023, at 88 FR 59439 as an interim measure to define the term “kiosk” to include updated technologies for Global Entry processing in addition to the legacy kiosks referenced in the previous version of the regulations.

When the Global Entry, SENTRI, and NEXUS programs were established, each program had a separate application process. The information on applicants and participants in each program was contained in separate CBP databases.⁴ Over time, due to advances in technology, security concerns, and the expansion of the programs, CBP created a more unified application process and a centralized database. Now, the Global Entry, SENTRI, and NEXUS programs use the same application.

⁴ Please note that other Federal agencies and foreign partners have access to this data in certain circumstances as described below in the section on privacy and as provided in the privacy documentation.

The application for Global Entry, SENTRI, or NEXUS is submitted electronically through the Trusted Traveler Program System (TTP System) website at https://ttp.cbp.dhs.gov. This website was formerly the Global Online Enrollment System (GOES) website.⁵ CBP uses the same vetting process to assess the risk level of an applicant regardless of whether they apply to the Global Entry, SENTRI, or NEXUS program. CBP officers review the applicant's information during the application processing to ensure that the applicant is in compliance with U.S. customs, immigration, and agriculture laws, regulations, and policies. CBP officers also compare that information against various criminal, antiterrorism, and other government databases. If an applicant appears to meet the eligibility criteria of the specific program during initial vetting, the applicant will be notified via the TTP System that they are conditionally approved. The applicant can then schedule a personal interview with a CBP officer at a time and place designated by CBP or, (for Global Entry and NEXUS only) at a specified “Enrollment on Arrival” airport.

⁵ Prior to the effective date of this rule, SENTRI applicants could submit a paper application, Form 823S, via mail or in person at a port of entry.

An applicant is notified via the TTP System if their application is denied. An applicant may contest their denial or removal from a CBP trusted traveler program by initiating the redress process through the DHS Traveler Redress Inquiry Program (DHS TRIP) at https://www.dhs.gov/dhs-trip, or by contacting the Trusted Traveler Ombudsman via a reconsideration request filed through the TTP System at https://ttp.cbp.dhs.gov. If the applicant is accepted into the Global Entry, SENTRI, or NEXUS programs, CBP mails the appropriate Western Hemisphere Travel Initiative (WHTI)-approved Radio Frequency Identification (RFID) trusted traveler card to the applicant.⁶

⁶ WHTI implements a statutory mandate to require all travelers to present a passport or other document that denotes identity and citizenship when entering the United States. See Intelligence Reform and Terrorism Prevention Act of 2004, Public Law 108-458, 7209, 118. Stat. 3638, 3823, as amended. The goal of WHTI is to facilitate entry for U.S. citizens and authorized foreign visitors while strengthening U.S. border security by providing standardized documentation that enables CBP to quickly and reliably identify a traveler. WHTI-compliant documents include valid U.S. passports, passport cards, trusted traveler program cards, and others.

The Global Entry, SENTRI, and NEXUS programs each have a five-year membership period. During this five-year membership period, CBP continually vets participants to ensure that the participating individuals are in compliance with the respective program requirements.

In recent years, these three CBP trusted traveler programs have developed many commonalities and have many reciprocal benefits (for example, eligible participants in any of the three programs may use Global Entry Kiosks at participating airports).⁷ Despite these commonalities and shared benefits, certain aspects of the Global Entry, SENTRI, and NEXUS programs vary, including their respective fees, the fees charged to certain minors, the fee payment schedules, and the application processes. CBP has determined that the different fees and application processes are no longer warranted. Moreover, the original fees for each of the three programs are no longer sufficient to recover CBP's costs to administer the programs. Therefore, CBP is now harmonizing the fees and application procedures for these programs.⁸

⁷ See the NPRM Harmonization of the Fees and Application Procedures for the Global Entry and SENTRI Programs and Other Changes at 85 FR 55597 or Table 1, below, for a full list of shared benefits.

⁸ No changes to the NEXUS program are being made through this final rule. CBP is concurrently issuing a separate Federal Register notice regarding changes to the NEXUS program.

A. Notice of Proposed Rulemaking

On September 9, 2020, DHS published a notice of proposed rulemaking (85 FR 55597) in the Federal Register proposing changes to the regulations in order to harmonize the Global Entry and SENTRI programs, as well as other minor changes (the NPRM). During the 60-day comment period, DHS was notified that it had failed to include a fee study in the docket for the rulemaking. As a result, on December 1, 2020, DHS posted the fee study to the docket and published a notice in the Federal Register reopening the comment period for an additional 30 days (85 FR 77016).

DHS received a total of 38 comments in response to the NPRM. The submissions included comments supporting the rule, requesting clarification, providing suggestions for changes, and voicing concerns. After review of the comments, through this final rule, CBP is finalizing the proposed changes in the NPRM without modification.

B. Adoption of Proposed Changes as Final

In this document, CBP is adopting as final the regulatory changes to Global Entry and SENTRI proposed by the NPRM. This rule describes the regulatory changes being made to the Global Entry program as well as the new regulatory provision for the SENTRI program in order to harmonize those two programs. CBP is concurrently issuing a separate Federal Register notice modifying the NEXUS program. Pursuant to 8 U.S.C. 1753(c), fee-setting for services and other administrative requirements relating to joint U.S.-Canadian projects such as the NEXUS program are exempt from the requirements of the Administrative Procedure Act and the Paperwork Reduction Act, but fees and forms established for such projects shall be published as a notice in the Federal Register.

II. Summary of Changes to the Global Entry and SENTRI Programs

A. Harmonizing the CBP Trusted Traveler Programs

As discussed above, CBP is harmonizing the application fees, the application fees paid by minors, the fee payment schedule, and the application processes for the Global Entry, SENTRI, and NEXUS programs through this final rule and a separate Federal Register notice. The changes to the Global Entry and SENTRI programs are described below.

1. Harmonization of the Global Entry and SENTRI Fees

Upon the effective date of this rule, the Global Entry fee will be increased from $100 to $120, and the total SENTRI fee will be decreased from $122.25 to $120.⁹ CBP has performed a fee study entitled “CBP Trusted Traveler Programs Fee Study” (fee study) to determine the amount of the fee that is necessary to recover the costs associated with processing applications for the Global Entry, SENTRI, and NEXUS programs. CBP determined that, in making the fee uniform across the three programs, a fee of $120 is appropriate and necessary to recover a reasonable portion of these costs.¹⁰ The new $120 application fee applies to new applicants and to participants who are renewing their memberships for both the Global Entry and SENTRI programs. As described below, this non-refundable fee will be paid to CBP at the time of submission of the application through the TTP System. This fee will be reflected in the revised Global Entry fee provision in title 8 of the Code of Federal Regulations (CFR) at 8 CFR 103.7, the new SENTRI fee provision in 8 CFR 103.7, the Global Entry program regulation, 8 CFR 235.12, and the new SENTRI program regulation, 8 CFR 235.14.

⁹ See detailed explanation in section II. C. of this document.

¹⁰ The NEXUS fee is split between the United States and Canada. The United States will only receive two-thirds of the revenue necessary to cover its costs of the NEXUS program while Canada receives the remaining one-third of the revenue. Please see the fee study entitled “CBP Trusted Traveler Programs Fee Study,” included in the docket of this rulemaking (docket number USCBP-2020-0035) for additional details.

2. Exemption of Certain Minors From Payment of the Application Fee

Prior to implementation of this final rule, the Global Entry, SENTRI, and NEXUS programs were not aligned with respect to whether minors ¹¹ were charged an application fee. The Global Entry program charged minors the full application fee, the SENTRI program had a complex family option plan, and the NEXUS program exempted all minors from payment of the application fee. This disparity resulted in families choosing a program based on financial considerations, instead of choosing a program based on the features and benefits of the program. To eliminate this disparity and to better reflect the costs to CBP to operate these programs, CBP is creating a uniform fee for adult applicants as well as a uniform exemption from the fee for certain minors.

¹¹ For the purposes of this final rule, we use the term “minor” to mean a person who is under the age of 18. The choice of this age range for a minor is based on the standard age of adulthood in the United States (18) as well as the age previously used and currently agreed to by Canada concerning exemption of minors from payment of the NEXUS fee.

Through this final rule, CBP is updating the regulations to provide that, for the Global Entry and SENTRI programs, minors are exempt from the application fee if they apply concurrently with a parent or legal guardian or if their parent or legal guardian is already a participant of the same program to which the minor is applying. Otherwise, the minor will be required to pay the $120 fee.

If the minor's parent or legal guardian is already an existing participant of Global Entry, SENTRI, or NEXUS, the minor will be required to enter the parent or legal guardian's name and trusted traveler number to allow CBP to verify this information. This exemption for minors will minimize the costs for families enrolling in the Global Entry, SENTRI, and NEXUS programs.

All minors applying to the Global Entry, SENTRI, or NEXUS programs, including those who are exempt from payment of the application fee, must have the consent of a parent or legal guardian to be eligible to participate. Further, minors (or their guardians) must complete the application and minors are subject to the requisite vetting, including the collection of fingerprints. For minors, a parent or legal guardian must be present at the time of the interview with a CBP officer.

In order to incorporate this fee exemption for certain minors, CBP is amending several regulations. With respect to the Global Entry program, CBP is amending the fee provision, 8 CFR 103.7(d)(13),¹² and the Global Entry program regulation, 8 CFR 235.12(d)(2). With respect to SENTRI, in order to harmonize the fees charged to minors in the other programs, CBP is eliminating the SENTRI family option plans.¹³ The family option plans offered minor children discounted rates or free enrollment based on their parent(s)' application to the SENTRI program. Family option plans are overly complex, do not provide a fee option for minors with legal guardians, and make arbitrary age distinctions that are no longer used by CBP. Accordingly, CBP is now replacing the SENTRI family option plans with new provisions regarding the SENTRI fee in 8 CFR 103.7(d)(16) ¹⁴ and the newly added 8 CFR 235.14(c)(3). These provisions incorporate the new SENTRI application fee and the fee exemption for certain minors.

¹² At the time of publication of the NPRM, this fee provision was located at 8 CFR 103.7(b)(1)(ii)(M). An unrelated United States Citizenship and Immigration Services rule rearranged this section, without substantive edits, so the Global Entry fee provision is now located at 8 CFR 103.7(d)(13).

¹³ See the NPRM for detailed background on the previous family option plans for SENTRI. Note that the new SENTRI regulation does not include a family option plan or rely upon a definition of “family” for exemption of minors from the application fee.

¹⁴ In the NPRM, CBP proposed to add 8 CFR 103.7(b)(1)(ii)(P), but this section has moved, as noted above, to 8 CFR 103.7(d), so we now add sub-paragraph (16).

B. Establishment of New Regulation for the SENTRI Program

This document creates a new section in part 235 of title 8 of the CFR that specifically covers the SENTRI program. The new section located at 8 CFR 235.14 for the SENTRI program is modeled after the Global Entry regulations at 8 CFR 235.12 and incorporates the parameters, requirements, and application procedures of the SENTRI program.

The legacy Immigration and Naturalization Service (INS) developed the SENTRI program pursuant to the regulations governing a series of programs referred to as the Port Passenger Accelerated Service System (PORTPASS) (8 CFR 235.7). The requirements and procedures that govern the PORTPASS program were therefore made applicable to the SENTRI program. Because of the transfer of functions from INS to DHS, as well as new technology and the expansion of the CBP trusted traveler programs, the SENTRI program has evolved since its inception under the PORTPASS regulations, and its requirements and procedures have changed. Now, almost all SENTRI applicants apply via the TTP System website using an application that is common to all of the CBP trusted traveler programs. These newer application procedures and eligibility requirements are not reflected in the PORTPASS regulation at 8 CFR 235.7.¹⁵ Additionally, CBP has established CBP trusted traveler enrollment centers, modernized the dedicated commuter lanes (DCLs) utilized by SENTRI participants, and established common methods of redress for all three CBP trusted traveler programs. The current requirement for a personal interview, the updates to the DCLs, and the redress methods are also not reflected in the PORTPASS regulations at 8 CFR 235.7, because the PORTPASS regulations are not specific to SENTRI. As the PORTPASS regulation does not accurately reflect the current requirements and processes for SENTRI, CBP is adding a new section that will specifically provide the SENTRI requirements.

¹⁵ As noted in the NPRM, CBP is not removing the PORTPASS regulations because those regulations still serve as the basis for the FAST program.

The new section describing the SENTRI program at 8 CFR 235.14 supersedes 8 CFR 235.7 for purposes of the SENTRI program. This new section includes a general description of the SENTRI program, the eligibility requirements, application procedures, redress procedures, and the requirement to pay an application fee as specified in a new fee section located at 8 CFR 103.7(d)(16). Except for the provisions concerning the eligibility requirements, the registration of vehicles and the use of special lanes for approved vehicles, the other provisions (i.e., the disqualifying criteria, application procedures, and the available redress procedures) are the same as in the Global Entry regulation, § 235.12.

The eligibility criteria for the SENTRI program are set forth in new § 235.14(b)(1). An individual of any nationality is eligible to apply for the SENTRI program. New § 235.14(c) sets forth the application procedures, including a requirement that a vehicle be approved by CBP to use the SENTRI lanes. In order to drive a vehicle into the United States through the SENTRI lanes, an applicant must register the vehicle by providing information about the vehicle on the application, and CBP will determine whether to approve the vehicle. The approved vehicle will be subject to an inspection when the vehicle enters the United States. This inspection will occur at secondary inspection during one of the vehicle's crossings into the United States at CBP's discretion.¹⁶ It is within CBP's sole discretion whether to approve a vehicle for the SENTRI program.

¹⁶ In accordance with the U.S. Government Accountability Office (GAO)'s recommendation regarding its recent review conducted of the CBP trusted traveler programs and CBP's goal of harmonizing the three CBP trusted traveler programs, CBP has eliminated the requirement for vehicle inspections at the enrollment center. See GAO Report 14-483, Trusted Travelers: Programs Provide Benefits, but Enrollment Processes Could be Strengthened (May 2014), available at: http://www.gao.gov/products/GAO-14-483.

New § 235.14(e) states that a SENTRI participant will be issued an RFID or other CBP-approved document granting the participant access to specific, dedicated primary lanes into the United States. As noted in the new regulation, users can go to www.CBP.gov, specifically https://www.cbp.gov/travel/trusted-traveler-programs/sentri, for more information on the location of dedicated SENTRI lanes. The new regulation also sets forth the new fee payment schedule, and a new fee exemption for certain minors. Accordingly, this document adds a new provision, 8 CFR 103.7(d)(16), which sets forth the new fee, the new fee charged to minors, and all relevant fee details for the SENTRI program.

C. Additional Changes to the SENTRI Program

1. Changes to the Fee Payment Schedule for the SENTRI Program

With this final rule, CBP is changing the SENTRI fee payment schedule. Prior to the effective date of this rule, the SENTRI fee was comprised of three separate amounts that an applicant paid at various stages in the application process: an application fee, a DCL systems cost fee (DCL fee), and a Federal Bureau of Investigation (FBI) fingerprinting fee. However, CBP will now require a SENTRI applicant to pay a non-refundable application fee of $120 at the time the applicant submits their application via the TTP System.

As discussed above, CBP performed a new fee study of the Global Entry, SENTRI, and NEXUS programs. Based on this fee study, CBP determined that a uniform fee of $120 is appropriate and necessary to recover a reasonable portion of the costs associated with application processing with respect to these three programs. This fee study was necessary to reevaluate the existing fees due to the expansion of the programs, advances in technology, and the shared benefits across the programs. For example, as technology has improved, the technology deployed and costs associated with the creation of specific dedicated commuter lanes are no longer necessary. Previously, CBP had to create dedicated permanent lanes for trusted traveler programs. Now, CBP has improved technology allowing every crossing lane to have the capability of processing general traffic and converting into lanes to process trusted travelers.

Therefore, as explained in detail in the fee study included on the docket, CBP has determined that the fee for the Global Entry, SENTRI, and NEXUS programs should only incorporate those costs associated with the application process. The costs of processing the application include the cost of operating and maintaining the TTP System, the FBI fingerprinting fee, the operation of enrollment centers, the vetting process and other relevant costs. The new fee does not include any costs related to DCLs. See the CBP Trusted Traveler Programs Fee Study for the entire breakdown of the proposed fee (docket number USCBP-2020-0035).¹⁷ Therefore, CBP has determined that it is no longer appropriate to charge SENTRI applicants the three separate payments under the original fee payment schedule.

¹⁷ The study is available at https://www.federalregister.gov/documents/2020/12/01/2020-26275/harmonization-of-the-fees-and-application-procedures-for-the-global-entry-and-sentri-programs.

As a result of this determination, CBP is adding 8 CFR 103.7(d)(16) to reflect that the $120 fee encapsulates the entire SENTRI fee and is payable at application submission. New 8 CFR 235.14(c)(3) states that the $120 non-refundable SENTRI fee must be paid to CBP at the time of the application submission through the TTP System or other CBP-approved process.

2. Requirement for Electronic Submission of the SENTRI Program Application and Payment of Fees

Prior to the effective date of this final rule, an applicant to the SENTRI program could apply online via the TTP System website or by submitting a paper application, Form I-823S at a port-of-entry or through mail as described in 8 CFR 235.7(a)(4). However, this rule eliminates the paper application as an option for SENTRI applicants, upon this rule's effective date. SENTRI applicants will now be required to apply to the SENTRI program online via the TTP System website, https://ttp.cbp.dhs.gov. Eliminating the paper SENTRI application will complete the harmonization of the application submission process for the three programs (Global Entry, SENTRI, and NEXUS), streamline the application process, reduce the burden on CBP officers, and expedite the application process.

Additionally, CBP will require applicants to pay the SENTRI application fee through the TTP System website at the time of online application. The elimination of the paper SENTRI application makes this change possible.

Furthermore, CBP is making changes to the procedures for paying the additional vehicle fee. Although there is not, and will not be, a fee for a SENTRI applicant to register one vehicle for use in the SENTRI lanes during the initial application or renewal process, there is and will continue to be a $42 fee to register any vehicle after the initial application or renewal process. This rule does not change the amount of the additional vehicle fee.

However, this rule changes the way the additional vehicle fee is paid. Previously, a SENTRI applicant or participant could pay this fee electronically via the TTP System or in person at the enrollment center. Upon the effective date of this rule, CBP will require payment of the additional vehicle fee electronically via the TTP System. CBP is making this change because the vehicle inspection is no longer performed at an enrollment center. Therefore, it would be inconvenient for applicants to make an additional trip to the enrollment center solely for the fee payment. Under the new system, if CBP approves the vehicle for use in the SENTRI lanes, the vehicle is subject to a vehicle inspection at secondary inspection during one of the vehicle's crossings into the United States at CBP's discretion. Requiring an applicant or participant to pay the additional vehicle fee online via the TTP System ensures that there is an electronic record of the payment when the vehicle arrives at secondary inspection. It also further harmonizes the Global Entry, SENTRI, and NEXUS programs.¹⁸ These SENTRI application procedures are included in the new regulations at 8 CFR 235.14(c).

¹⁸ Global Entry participants may register one vehicle for use in the SENTRI lanes at no additional cost at the time of application, just like SENTRI participants. These participants will continue to pay a $42 fee to register any vehicle after the initial application or renewal process. NEXUS participants must pay the $42 fee for any vehicle registered for use in the SENTRI lanes regardless of the time of registration for the vehicle.

D. Additional Changes to the Global Entry Program

1. 8 CFR 235.12(g)

Global Entry participants must follow certain procedures upon arrival in the United States. These arrival procedures are set forth in 8 CFR 235.12(g). Prior to the implementation of this rule, those procedures required that an arriving passenger proceed to a Global Entry kiosk, follow the on-screen instructions, and declare all articles brought into the United States. For the reasons discussed below, CBP is revising this paragraph to eliminate the reference to “arrival in the United States”. CBP is also removing the reference, throughout the regulation, to Global Entry “kiosks” and replacing the word with the phrase “Global Entry Processing” to allow the applicable facilities and technology to evolve without the need to revise the regulations again in the future. For this same reason, CBP is also removing the phrase “on-screen” from the phrase concerning following instructions and instead stating that the participant must “follow all CBP instructions”. CBP is also amending the instructions to remove references to “customs declaration” as that is not applicable in all Global Entry locations, as discussed below.

Additionally, this rule updates the regulations for the Global Entry program to be consistent with CBP's expansion of the program to persons traveling to U.S. territories, as well as persons who are processed at preclearance facilities located outside the United States. When the regulation was first issued, CBP did not offer Global Entry at airports located in the U.S. territories or at preclearance facilities in foreign countries. Because of the success of the Global Entry program and CBP's desire to facilitate the travel of additional Global Entry, qualified SENTRI, and NEXUS participants, CBP now offers Global Entry in certain U.S. territories and at all preclearance facilities in foreign countries.

The expansion of Global Entry to U.S. territories allows dedicated CBP processing of Global Entry, qualified SENTRI, and NEXUS participants into these territories. However, pursuant to 19 CFR 7.2(b), CBP does not perform a customs function in certain U.S. territories. Accordingly, CBP does not collect customs declarations in those territories. As the customs declaration does not apply in all Global Entry locations, CBP is amending 8 CFR 235.12(g) to eliminate the reference to customs declarations, instead stating that travelers should follow all CBP instructions when using Global Entry processing (which will include instructions to declare items where that functionality exists).

The expansion of Global Entry to preclearance facilities in foreign countries also allows select foreign airports with preclearance facilities to provide dedicated CBP processing for Global Entry, qualified SENTRI, and NEXUS participants on direct outbound flights to the United States.¹⁹ Preclearance facilities are staffed with CBP officers responsible for conducting customs, immigration, and agricultural inspections of passengers, crew, and their goods bound for the United States. Generally, travelers who are inspected at a preclearance facility are permitted to arrive at a U.S. domestic facility and either exit the U.S. domestic terminal upon landing or connect directly to a U.S. domestic flight without further CBP processing. Because the Global Entry processing may occur at a point prior to the traveler's arrival in the United States, CBP is amending 8 CFR 235.12(g) to eliminate the phrase “upon arrival in the United States”.

¹⁹ Section 101.5 of title 19 of the CFR (19 CFR 101.5) sets forth a list of CBP preclearance offices in foreign locations. Section 162.8 of title 19 of the CFR (19 CFR 162.8) permits CBP officers stationed in a foreign country at a preclearance facility to exercise such functions and perform such duties as may be permitted by treaty, agreement, or law of the country in which the officer is stationed.

2. 8 CFR 235.12(h)

Section 235.12(h) addresses certain examination and inspection issues related to the use of Global Entry. Prior to the effective date of this rule, the regulation specified that pursuant to the enforcement provisions of 19 CFR part 162, Global Entry participants may be subject to further CBP examination and inspection at any time during the arrival process. As noted above, CBP does not have customs responsibilities at all Global Entry locations. For this reason, CBP is amending 8 CFR 235.12(h) to eliminate the reference to 19 CFR part 162. Part 162 concerns, in relevant part, inspections within the customs territory of the United States. A reference to 19 CFR part 162 is not needed in 8 CFR 235.12(h) because the purpose of the paragraph regarding successful use of Global Entry at any location can be more clearly and accurately stated without specific reference to 19 CFR part 162.

3. Other Amendments to 8 CFR 235.12

In addition, CBP is making several minor changes to the language in 8 CFR 235.12. First, because Global Entry now operates in some U.S. territories and preclearance facilities outside the United States, CBP is removing the phrase “expedited entry into the United States” and replacing it with the term “dedicated CBP processing”. Accordingly, CBP is updating the language in § 235.12(a) and (c) to reflect these changes.

Additionally, the interview procedures for the Global Entry program have changed slightly since its inception. Global Entry applicants were previously required to schedule their interviews at a Global Entry enrollment center. Global Entry applicants now have the option to have their personal interviews at certain participating airports referred to as “Enrollment on Arrival” airports. The locations of the participating airports can be found at https://www.cbp.gov/travel/trusted-traveler-programs/global-entry/enrollment-arrival. The applicant does not need to schedule the interview in advance but may only use this option if they arrive in the United States on an international flight at one of the “Enrollment on Arrival” airports. CBP may also provide additional personal interview options in the future. Therefore, CBP is updating the language in 8 CFR 235.12(e)(1) to eliminate the specific reference to Global Entry enrollment centers.

Finally, CBP no longer suspends a participant's Global Entry membership. CBP either denies an applicant participation under the disqualifying factors in 8 CFR 235.12(b)(2) or, alternatively, a Global Entry participant is removed from the program if CBP determines under 8 CFR 235.12(j)(2) that such action is necessary. To reflect this change, CBP is removing all references to “suspend,” “suspension,” and “suspended” from § 235.12(d)(3), (j), and (k).

E. Conforming Amendment to 8 CFR 103.7

This document eliminates the regulation specifying the amount for the DCL fee at 8 CFR 103.7(d)(1). This fee is for use of DCLs located at specific ports of entry for approved PORTPASS participants in designated vehicles. As discussed above, this fee is one element of the original SENTRI program fee. SENTRI is the only PORTPASS program in which CBP charges the DCL fee. Upon the effective date of this final rule, the entire SENTRI fee will be specified in 8 CFR 103.7(d)(16). Since CBP will no longer have any other programs which charge the DCL fee, this paragraph (d)(1) is unnecessary. Therefore, CBP is removing and reserving 8 CFR 103.7(d)(1).

III. Discussion of Comments Submitted in Response to the NPRM Proposing Changes To Harmonize the Global Entry and SENTRI programs

A. Overview

DHS received a total of 38 comments in response to the NPRM. The submissions included comments supporting the rule, comments requesting clarification on certain aspects of the rule, comments providing suggestions for changes primarily to the fee structure, and comments voicing concerns about the new fees or other parts of the programs. Below is a summary of the comments received, grouped by category, along with CBP's response to the comments.

B. Discussion of Comments

1. Comments Expressing General Support for Rule

Comments: Several commenters supported the proposed change allowing for children to join these programs for free when they apply with or after a guardian. Furthermore, other commenters supported the new fee proposal generally. Some commenters noted that the rule would benefit families (particularly through fee exemptions for minors applying with or after a guardian) and facilitate travel. One commenter stated agreement with raising the price only if it means faster access to an interview.

Response: CBP thanks these commenters for their support. CBP agrees with the commenters that the rule will result in cost savings to some families applying for the Global Entry and SENTRI programs, as described in the rule's economic impact analysis (see section on Executive Orders 12866 and 13563). While this rule will not directly result in faster access to interviews, CBP is always trying to innovate to improve processing of trusted traveler applications.

2. Comments Expressing General Opposition to Rule

Comments: Several commenters expressed general opposition to the rule, including any changes to trusted traveler program fees. Several commenters suggested that Global Entry, SENTRI, and NEXUS fees should remain the same. One commenter also said CBP should better allocate its resources instead of hiking fees. Numerous commenters expressed dissatisfaction with the wait times to get an interview for trusted traveler programs.

Response: As previously stated, and explained in the fee study, CBP's original Global Entry, SENTRI, and NEXUS fees are not sufficient to recover CBP's costs to administer the programs. CBP is working to ensure that all applicants are interviewed in a timely manner. CBP has also implemented a remote interview pilot program,²⁰ which will reduce the backlog of conditionally approved applicants. This program will provide additional accessible interview options that will decrease the time applications are in the backlog of conditionally approved applications. TTP personnel can conduct virtual interviews at select ports of entry, thereby increasing interview capacity and improving the enrollment process for the future.

²⁰ Currently the pilot program is only available for renewal applications. When this final rule become effective, CBP may expand the program to new applications as well.

3. Comments on Fee Structure

Comments: Several commenters suggested alternative structures to the proposed Global Entry, SENTRI, and NEXUS fee. One commenter suggested that CBP use an application fee scale for Global Entry, SENTRI, and NEXUS membership where adults aged 18 and over pay $120, children aged 0-6 pay $0, children aged 7-11 pay $40, and children aged 12-17 pay $80.

Response: CBP appreciates the commenter's suggestion to adjust the application fee on the basis of age. CBP has considered this alternative fee schedule but will finalize its proposal to waive only the fee of minor applicants with a participant/concurrent applicant parent or legal guardian because this exemption for minors will minimize the costs for families enrolling in the Global Entry, SENTRI, and NEXUS programs. The cost for minors with parents in the program is offsetting, whereas waiving the fee for minors without a parent in the program is not supported by the fee study.

Comment: One commenter opposed exempting certain minors from application fees and instead suggested that the TTP fee structure should closely match the U.S. passport fee structure, where first-time applicants and renewing participants pay different fees, and children are not exempt from application fees. The commenter believes that this fee structure would motivate adults and children to enroll and remain participants of Global Entry, SENTRI, and NEXUS “in a more fair way.”

Response: CBP appreciates the commenter's suggestion to adjust the application fee based on the U.S. passport fee structure. CBP is finalizing its proposed fee structure instead of adopting the commenter's suggested U.S. passport fee-based structure because CBP generally incurs the same costs to enroll first-time and renewing participants into the Global Entry, SENTRI, and NEXUS programs. Charging lower fees to renewal applicants would unfairly require new participants to subsidize the application costs of existing participants.

Moreover, CBP does not agree with the commenter's suggestion to adopt the U.S. passport fee structure's application fees for children. CBP will waive the Global Entry, SENTRI, and NEXUS application fees for minor applicants with a participant/concurrent applicant's parent or legal guardian to lessen the financial burden of trusted traveler program participation for families. This approach is consistent with the original SENTRI and NEXUS fee exemption and cap for families with minors used to lessen the financial burden of these programs to families. CBP has determined that a harmonized fee of $120 is appropriate and necessary to recover a reasonable portion of the costs associated with application processing for these trusted traveler programs.

Comment: Two commenters suggested alternatives to the proposed fee structure if the NEXUS fee must increase. The first commenter suggested that CBP provide a subsidy to applicants who meet certain income requirements or low-income families. The second commenter asked CBP to raise the NEXUS fee by no more than $10.

Response: This rule does not make changes to the NEXUS fee. Changes to the NEXUS fee are being done through a separate notice in the Federal Register published concurrently with this final rule. However, CBP acknowledges that the purpose of this rule and that notice jointly are to harmonize the Global Entry, SENTRI and NEXUS fees, therefore, we are providing Responses regarding the NEXUS fee for transparency purposes here in this rule even though the NEXUS fee is outside the scope of this rule. The proposed fee already lessens the financial burden of trusted traveler program participation for families by waiving the application fee for minors who concurrently apply for Global Entry, SENTRI, or NEXUS with a parent or legal guardian or whose parent or legal guardian already participates in one of the programs. Global Entry, SENTRI, and NEXUS, as fee-funded programs, require CBP to recoup cost of administering trusted traveler programs for frequent international travelers through an application fee process. Additionally, the original NEXUS fee is not sufficient to recover CBP's costs to administer the program. Raising the NEXUS fee by only $10 would not sufficiently cover CBP's costs to administer NEXUS. As previously stated, CBP has determined that a harmonized fee of $120 is appropriate and necessary to recover a reasonable portion of the costs associated with application processing for the Global Entry, SENTRI, and NEXUS trusted traveler programs.

Comment: Two other commenters stated that they believe the proposed $120 Global Entry, SENTRI, and NEXUS fee is “too low,” with one commenter proposing a fee of $500. However, these commenters did not provide any evidence supporting this statement or suggest any costs that were excluded from the fee's calculation.

Response: CBP's fee study determined that a uniform $120 fee is appropriate and necessary to recover a reasonable portion of costs associated with application processing for the Global Entry, SENTRI, and NEXUS programs. The commenter's suggestion to increase the fee well beyond $120 would not be appropriate.

Comment: One commenter questioned why CBP could not process applicants of Global Entry and SENTRI for the same $50 fee as NEXUS. The commenter stated: “if CBP and its Canadian counterpart, the Canadian Border Services Agency, can process applications for an individual for $50 and a family for just $100 while also splitting revenue then CBP should be able to do the same for Global Entry and SENTRI users.” The commenter also asserted that CBP did not account for the cost savings of the Global Entry, SENTRI, and NEXUS programs' expedited processing when calculating the proposed $120 fee and asked CBP to consider these savings to maintain the original $100 Global Entry fee.

Response: The original Global Entry, SENTRI, and NEXUS fees are not sufficient to recover CBP's costs to administer the programs. CBP has determined that a harmonized fee of $120 is appropriate and necessary to recover a reasonable portion of the costs associated with application processing for these trusted traveler programs. As noted in the rule, even though the proposed $120 fee is set to recover the full costs of the Global Entry, SENTRI, and NEXUS programs, the United States will only receive two-thirds of the revenue necessary to cover its costs of the NEXUS program while Canada receives the remaining one-third of the revenue. CBP did not adjust the $120 fee higher to account for this split in revenue because doing so would cause applicants to Global Entry and SENTRI to subsidize the costs of the NEXUS program and the purpose is to harmonize the fees across the three programs. Additionally, CBP recognizes that the Global Entry, SENTRI, and NEXUS programs offer certain cost savings to CBP. These savings represent time cost savings rather than budgetary savings, meaning that CBP dedicates the savings to perform other agency missions, such as facilitating trade and enhancing border security. CBP accounted for the time cost savings of Global Entry, SENTRI, and NEXUS to the agency when creating the programs and used the appropriate net costs to determine the proposed $120 Global Entry, SENTRI, and NEXUS fee.

4. Comments on Expanding Fee Exemption for Certain Minors

Comment: Several commenters requested that CBP adjust its fee exemption for minors. One commenter asked CBP to exempt all minors from paying the Global Entry, SENTRI, and NEXUS application fees. Other commenters suggested that CBP expand its fee exemption to also exempt individuals who are 21 years old and younger and who are enrolled in full-time studies and dependent on their parents for their housing and subsistence from paying the Global Entry, SENTRI, and NEXUS application fees. Another commenter requested that CBP offer application fee waivers to individuals under the age of 26 living at the same address as their parents or legal guardians.

Response: CBP does not agree with exempting all minors from paying the Global Entry, SENTRI, and NEXUS application fees because the fee study that was completed does not support that exemption and a narrower exemption is necessary for CBP to reasonably recover its costs associated with the programs. In calculating the fee, CBP adjusts the per applicant cost to allow minors under the age of 18 free membership in any of the three TTPs, while still recovering all its costs when a parent or legal guardian is already a participant of, or concurrently applying for the Global Entry, SENTRI, or NEXUS trusted traveler program. The cost for waiving the fee for minors is offset when a parent or legal guardian is applying or already enrolled in the program, whereas the cost for waiving fees for minors without a parent or legal guardian applying or already enrolled in the program is not offset and not supported by the fee study. Additionally, CBP does not agree with the suggested fee exemptions for older dependents or individuals under the age of 26 living at the same address as their parents or legal guardians because 18 is the standard age of adulthood in the United States and collecting the fee for all adults is necessary for CBP to reasonably recover its costs associated with the programs. Further, 18 is the age previously used and currently agreed to by Canada concerning exemption of minors from payment of the NEXUS fee, and thus using 18 as the upper age limit for the exemption furthers the goal of aligning the fee structure across programs.

5. Comments Opposing Waiver of Fees for Minor Applicants

Comments: Some commenters opposed exempting minors from paying the Global Entry, SENTRI, and NEXUS programs, with several suggestions that the exemption would degrade the integrity and value of the program. One commenter implied that the proposed fee increase is due to waiving minor applicants.

Response: CBP does not agree with these comments. CBP will offer fee exemptions to minors who concurrently apply for Global Entry, SENTRI, or NEXUS with a parent or legal guardian or whose parent or legal guardian already participates in one of the programs to lessen the financial burden of trusted traveler program participation for families. This practice is consistent with the original SENTRI and NEXUS fee exemption and cap for families with minors used to lessen the financial burden of these programs to families. CBP will continue to maintain the integrity and the value of the Global Entry, SENTRI, and NEXUS programs with this fee change. The trusted traveler programs will continue to develop innovative approaches to process arriving travelers, while facilitating the traveling experience and enhancing passenger security. As more fully discussed in the fee study, the original Global Entry, SENTRI, and NEXUS fees are not sufficient to recover CBP's costs to administer the programs. CBP has determined that a harmonized fee of $120 is appropriate and necessary to recover a reasonable portion of the costs associated with application processing for these trusted traveler programs. Contrary to the commenter's claims, this fee increase is a result of updated CBP costs, as opposed to the waiver of application fees for minors.

6. Comments About Combining Global Entry, SENTRI, and NEXUS Trusted Traveler Programs

Comments: Several commenters suggested that CBP combine the Global Entry, SENTRI, and NEXUS programs into one trusted traveler program in an effort to decrease costs to CBP and decrease the proposed $120 applicant fee that is based in part on these CBP costs. One of these commenters also noted that this consolidation seems more consistent with the principles set forth in Executive Order 13563.

Response: CBP is not combining the Global Entry, SENTRI, and NEXUS programs into one program at this time because of the differences in eligibility requirements for each respective program. Combining these three programs into one program would require significant changes to each program. Furthermore, any changes to the NEXUS program would require Canada's concurrence.

7. Comments Opposing NEXUS Fee Change

Comments: Several commenters opposed the proposed NEXUS fee increase and believe that it would pose a financial burden for many individual NEXUS participants and families. One of these commenters also stated that the proposed fee will discourage NEXUS program participation. They believe that the fee will subsequently discourage interstate commerce between the United States and Canada, as well as economically beneficial trips between the countries. Another commenter who opposed the NEXUS fee increase stated that increasing the NEXUS application fee would disproportionately burden most American applicants for NEXUS, relative to applicants for Global Entry. Another commenter who opposed the NEXUS fee increase incorrectly asserted that the U.S. Government would profit from the proposed fee increase.

Response: As noted throughout this final rule, this final rule does not make modifications to the NEXUS program. Modifications to that program are being made through a separate notice in the Federal Register and are exempt from the notice and comment requirements in the Administrative Procedure Act pursuant to 8 U.S.C. 1753(c). Nonetheless, CBP is providing responses to comments regarding the NEXUS program here for clarity and transparency purposes.

Global Entry, SENTRI, and NEXUS are voluntary trusted traveler programs that provide special benefits to participants beyond those available to general travelers who are not participants of trusted traveler programs. NEXUS is a joint program with Canada and requires an applicant to have an interview with both U.S. and Canadian authorities. The original Global Entry, SENTRI, and NEXUS fees are not sufficient to recover CBP's costs to administer the programs. CBP has determined that a harmonized fee of $120, or equivalent to $24 per year over the five-year membership period, is appropriate and necessary to recover a reasonable portion of the costs associated with application processing for Global Entry, SENTRI, and NEXUS, while still offering reprieve to families with minor applicants. CBP does not believe that a $70 total increase in the NEXUS fee, or a $14 increase per year, will place a large financial burden on NEXUS applicants. Similarly, CBP does not believe that a $140 total increase in the NEXUS fee for families, or a $28 increase per year, will place a large financial burden on families. Nonetheless, each renewing or prospective NEXUS participant and family must determine if the benefits of dedicated CBP processing into the United States would equal or exceed the costs of joining the voluntary program.

CBP does not believe that the increased cost for the NEXUS program will discourage participation in the program as the program will still be beneficial to the vast majority of travelers. Even if a traveler chooses not to participate in the program, it is unlikely that the traveler will forgo land travel to the United States given the only slightly higher wait times for regular travelers along the northern land border. Accordingly, CBP does not believe that the proposed fee increase will discourage international commerce between the United States and Canada or economically beneficial trips between the countries.

Regarding the disproportionate effect on NEXUS users, CBP agrees that the proposed fee will result in a higher application fee increase for current NEXUS participants than current Global Entry participants. However, the original $50 NEXUS fee is much lower than the Global Entry and SENTRI fees, even though it has a nearly identical application process and has even more travel benefits than the Global Entry and SENTRI programs. As previously stated, the original Global Entry, SENTRI, and NEXUS fees are not sufficient to recover CBP's costs to administer the programs. Given these unreimbursed costs and the nearly identical application processes and benefits, CBP is proposing to increase and harmonize the application fee for these trusted traveler programs.

Finally, as noted throughout this document, CBP has determined that a harmonized fee of $120 is appropriate and necessary to recover a reasonable portion of the costs associated with application processing for these trusted traveler programs, without U.S. Government profit.

8. Comments on SENTRI Program Changes

Comments: One commenter asked if moving all applications to the online portal, eliminating the paper application option for the SENTRI program, will cause an undue burden on families who do not own a computer or have access to a reliable internet connection. That commenter also asked if the rule's requirement to pay a one-time non-refundable application fee at the time of application rather than in increments like the original SENTRI application fee structure would increase the financial burden for some families to join SENTRI.

Response: Eliminating the paper SENTRI application will complete the harmonization of the application submission process for the Global Entry, SENTRI, and NEXUS programs,²¹ streamline the application process, reduce the burden on CBP officers, and expedite the application process. As stated in the rule's economic impact analysis (see section on Executive Orders 12866 and 13563), CBP recognizes that applying and paying for the SENTRI program and vehicle registrations electronically requires internet access. CBP acknowledges that those without readily available internet access will have to visit a facility that provides internet access to the public, such as a library. However, in 2022, CBP received 232,026 SENTRI applications and 105,063 SENTRI vehicle enrollment applications, all of which were submitted electronically (no paper submissions).²² Applicants would not likely opt to file electronically if it were more burdensome to do so. For this reason, CBP assumes that no applicants will need to travel to access the internet for the purpose of submitting the application or paying the required fees. To the extent that someone does need to travel, they will incur small opportunity and transportation costs. CBP notes that the SENTRI program is a voluntary program and that all individuals must determine if the benefits of receiving dedicated CBP processing either meet or exceed the costs of joining the SENTRI program.

²¹ A NEXUS applicant may submit a paper application to apply to the NEXUS program. This is a Canada Border Services Agency (CBSA) form, not a CBP form. As such, the paper NEXUS application is sent to CBSA, processed, and input by CBSA. CBP's NEXUS application and application submission are completely electronic.

²² Data provided by subject matter experts from CBP's Office of Admissibility and Passenger Programs, Trusted Traveler Programs Division, Office of Field Operations on February 21, 2023.

Regarding the application fee structure for families, CBP acknowledges that families who apply to join the SENTRI program will pay more at the time of application under the revised regulations than under the original process. However, these families will generally pay less overall to join the program under the revised regulations. Paying all SENTRI application fees at the time of application instead of in increments is consistent with CBP's goal of harmonizing the Global Entry, SENTRI, and NEXUS application processes. Accordingly, CBP does not support incremental application payments for SENTRI membership.

CBP does not believe that paying relatively more to join SENTRI earlier in the application process under the revised regulations than under the original process will introduce such a large financial burden to families to the extent that the increase will prohibit them from applying to join SENTRI. Nonetheless, each renewing or prospective family participating in SENTRI must determine if the benefits of dedicated CBP processing into the United States would equal or exceed the costs of joining the program.

9. Comments on Definition of Family for Fee Exemption

Comments: Some commenters asked CBP to update its definition of family that is currently included in the regulations for SENTRI fee exemptions to reflect modern family structures. One of these commenters was also confused by the definition of a family in the paragraph under Table 10.

Response: The revised regulatory language for the SENTRI fee exemptions does not include a definition for the word “family.” Rather, the revised Global Entry, SENTRI, and NEXUS fee exempts minors who apply concurrently with any parent or legal guardian, or whose parent or legal guardian is already a participant of the program to which the minor is applying, from payment of the applicable fee. CBP has attempted to clarify in this document that this rule does not provide a definition of family for fee exemptions, including clarifying the language in Table 10 highlighted by one commenter. The revised regulations do expand the minors eligible for fee waiver as the regulations will allow a minor applying with or after any parent or guardian to enroll for free.

10. Miscellaneous Comments

Comments: CBP received several miscellaneous comments. One commenter noted that the rule did not state a difference in processing costs for the trusted traveler programs between a minor applicant with a participant/concurrent applicant parent or legal guardian and a solo minor applicant.

Response: Typically, there is no notable difference in CBP processing costs between a minor applicant with a participant/concurrent applicant parent or legal guardian and a solo minor applicant. According to CBP subject matter experts, it takes about the same amount of time for a CBP officer to process a solo minor trusted traveler program applicant as it does for one who applies with a participant/concurrent applicant parent or legal guardian. CBP has included this processing cost information in the economic impact analysis for this final rule. As stated above, the fee study supports that the cost for not charging a fee for minors to apply is only offset when a parent or legal guardian has applied for a trusted traveler program. If a fee was not charged for minors applying and those minors do not have a parent or legal guardian also applying for the program that cost is not offset and therefore that policy is not supported by the fee study.

Comment: One commenter wrongly asserted that the proposed fee increase is a barrier for travelers, particularly minorities and disabled individuals, to “have the same [travel] experience as everyone else.”

Response: The Global Entry, SENTRI, and NEXUS are voluntary trusted traveler programs that provide dedicated processing to participants beyond those that are provided to general travelers. Not participating in these voluntary programs alone would not prevent travelers from traveling to, entering, or being admitted to the United States. In fact, these programs lead to faster processing overall for participants and non-participants. CBP does not discriminate based on race, gender, disability, or other protected factors and is not increasing the fees as a method for decreasing enrollment in these programs. CBP has determined that a harmonized fee of $120, or $24 per year over the five-year membership period, is appropriate and necessary to recover a reasonable portion of the costs associated with application processing for these voluntary trusted traveler programs, while still offering reprieve to families with minor applicants. Each renewing or prospective Global Entry, SENTRI, and NEXUS participant must determine if the benefits of dedicated CBP processing into the United States would equal or exceed the costs of joining a program.

Comment: One commenter stated that the proposed fee would equal about $160.00 Canadian dollars (CAD) using an exchange rate of $1.00 U.S. dollar (USD) = $1.35 CAD. The same commenter remarked that the cost of NEXUS for dual citizens is well over $500.00 USD.

Response: The harmonized $120 fee captures the costs of the program to CBP, which uses U.S. dollars. As such, this fee is in U.S. dollars. This practice is consistent with other CBP user fees for international travelers. CBP notes that the $120 USD fee for individuals paying in Canadian dollars is dependent on the exchange rate, so it may be higher or lower than $120 CAD. Further, this commenter incorrectly attributed the cost of a U.S. passport and Canadian passport to NEXUS membership. U.S. and Canadian passports are required for dual citizens to travel between Canada and the United States, regardless of NEXUS membership. NEXUS is a voluntary trusted traveler program that provides special benefits to participants beyond those that are available to general travelers. The fee for participation is $120.00 USD.

Comment: A few commenters noted that some credit card companies reimburse the application fees for Global Entry applicants. Some of these commenters also suggested that CBP encourage all credit card issuers to offer reimbursement of the SENTRI and NEXUS enrollment fees.

Response: CBP acknowledges that prior to this rule some private credit card companies have reimbursed the full amount of the $100 fee to Global Entry applicants. Regardless of credit card reimbursement or lack thereof, CBP still receives the payment for the Global Entry fee. Therefore, CBP does not believe reimbursement of these fees by some credit card agencies will have any impact on the analysis of this rule. The suggestion that CBP encourage credit card issuers to offer reimbursement is outside of the scope of this rule.

Comment: One commenter stated that application fees alone inaccurately capture the true cost for travelers to obtain Global Entry and NEXUS memberships.

Response: The commenter is correct that application fees alone do not reflect the true cost for travelers to obtain Global Entry and NEXUS memberships. However, the rule will not affect the Global Entry and NEXUS application processes, and CBP expects that this rule will not result in changes to any potential costs placed on applicants beyond the application fees. The minor regulatory changes to Global Entry processing reflect current practice. Thus, this rule will not result in new costs or benefits. As such, CBP focused on the economic impacts of the increased Global Entry fee in the rule's economic impact analysis, along with the effects of the changes to the SENTRI program. CBP has clarified in the final rule's economic impact analysis that the minor regulatory changes involving Global Entry processing reflect current practice and will therefore not introduce new costs or benefits.

Comment: One commenter noted that CBP inadvertently failed to post the fee study in the docket when the Harmonization of the Fees and Application Procedures for the Global Entry and SENTRI Programs and Other Changes Notice of Proposed Rulemaking (NPRM) was first published.

Response: To correct this omission, on December 1, 2020, CBP published the fee study in the docket and reopened the comment period for the NPRM and fee study for an additional 30 days.

Comment: One commenter noted that the economic impacts of the COVID-19 pandemic, such as decreased travel, high unemployment, and financial uncertainty, could nullify the Global Entry, SENTRI, and NEXUS applicant forecasts upon which the proposed rule is based.

Response: CBP acknowledges that the COVID-19 pandemic previously led to a drop in travel to the United States and negative economic impacts. For that reason, CBP continues to use the 2015 to 2019 Global Entry, SENTRI, and NEXUS applicant data as the basis for its proposed fee for these programs. That data does not reflect an abnormal change in Global Entry, SENTRI, and NEXUS program memberships and results in a fee that still recovers a reasonable portion of costs associated with application processing for these trusted traveler programs. If CBP adjusted the data to reflect a smaller number of Global Entry, SENTRI, and NEXUS applications than currently used to calculate the $120 fee, the Global Entry, SENTRI, and NEXUS fee would be even higher than the revised fee of $120. The higher fee would become a larger financial burden for individuals interested in joining these trusted traveler programs or renewing their program memberships. The larger burden would be a result of the fact that the $120 Global Entry, SENTRI, and NEXUS fee, as described in the fee study, is based in part on fixed costs not dependent on the number of Global Entry, SENTRI, and NEXUS applicants. CBP further notes that the agency is within its rights to charge less than the full cost recovery of the Global Entry, SENTRI, and NEXUS programs to the agency.

Comment: One commenter said that making the cost of the application free for minors who apply with their parents will cause problems since parents will now not hesitate to enroll kids for free. The commenter suggested this will lead to many problems with getting approvals for the programs, namely, longer wait times both for getting conditionally approved and getting interviews. This commenter said interview centers are already backed up for months and that it is almost impossible to get an interview, so this change will only add to the unavailability of appointments.

Response: CBP is always working on trusted traveler program innovations and process improvements to ensure that the programs remain efficient with the latest technologies so that processing times for all travelers are reduced. CBP is committed to enhancing the customer experience to include making arrival processing easier for family units and more accessible to a greater number of individuals. CBP has expanded hours at enrollment centers, expanded the use and efficiency of Enrollment on Arrival, increased the number of renewal applicants eligible for approval without a new interview or using a remote interview and improved transparency and consistency related to the scheduling process.

IV. Statutory and Regulatory Requirements

A. Executive Orders 12866 and 13563

Executive Orders 12866 (Regulatory Planning and Review), as amended by Executive Order 14094 (Modernizing Regulatory Review) and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. CBP anticipates that during the five-year period of analysis, this rule will result in approximately $210 million in net transfer payments to CBP, or on average $51.2 million annually (assuming a 7 percent discount rate and using 2022 U.S. dollars).

The Office of Management and Budget (OMB) has not designated this rule a “significant regulatory action,” under section 3(f) of Executive Order 12866. Accordingly, OMB has not reviewed it. CBP has prepared the following analysis to help inform stakeholders of the impacts of this final rule.

1. Purpose of the Rule

CBP operates several voluntary trusted traveler programs that afford pre-approved travelers with dedicated processing when traveling to the United States. These programs are the Global Entry program, SENTRI program, and NEXUS program.²³ When originally developed, each program had its own application process and participants of one program could not take advantage of the benefits of other programs. As the programs expanded, CBP determined that it was necessary to unify certain aspects of the three trusted traveler programs. Currently, the programs have a nearly identical application process and certain participants of any one of the programs can enjoy nearly all the benefits of the other two trusted traveler programs. However, regulatory changes are needed to unify certain aspects of the programs.

²³ As stated in footnote 2, the FAST program is another CBP trusted traveler program that allows pre-approved commercial truck drivers dedicated processing at select commercial ports of entry at the northern and southern land borders. This program has different vetting standards, is offered to a different type of traveler, and does not have the same benefits as the Global Entry, SENTRI, and NEXUS programs. TSA PreCheck is an additional DHS trusted traveler program administered by the TSA.

Although the trusted traveler programs all offer nearly reciprocal benefits with each other, the original Global Entry, SENTRI, and NEXUS fees are $100, $122.25, and $50, respectively. In addition to leading to potential confusion and charging different prices for nearly the same product for prospective and renewing trusted traveler program participants, these fees are no longer sufficient to recover CBP's costs to administer the programs. Instead, all unreimbursed costs are currently covered by appropriated funds. As discussed below, CBP has determined that a harmonized fee of $120 is appropriate and necessary to recover a reasonable portion of the costs associated with application processing for these trusted traveler programs.

Beyond harmonizing the fee for Global Entry and SENTRI programs ²⁴ so that CBP recovers a reasonable portion of the costs of these programs, this final rule CBP will also implement a number of other changes. CBP will revise the SENTRI fee payment schedule and certain aspects of the application process, including incorporating the SENTRI program into DHS regulations. CBP will also exempt minors who are applying to Global Entry or SENTRI from the fee when one or more parents or legal guardians are already a participant of or concurrently applying for the same program. Additionally, CBP will eliminate the DCL fee currently applicable only to approved SENTRI participants and will require all SENTRI program applications and additional SENTRI program vehicle registrations fees to be paid for electronically. Finally, Global Entry regulations will also be updated in this final rule to be consistent with the program's expansion to certain U.S. territories and preclearance facilities.

²⁴ Changes to the NEXUS fee are being announced in a separate Federal Register notice.

2. Background

When originally developed, the Global Entry, SENTRI, and NEXUS programs each had its own application process and participants in one program could not take advantage of the benefits of other programs. As the programs expanded, CBP determined that it was necessary to unify certain aspects of the three trusted traveler programs. Currently, the programs have a nearly identical application process and participants in any one of the programs can enjoy nearly all the benefits of the other two trusted traveler programs. As shown in Table 1 below, certain NEXUS and SENTRI participants are eligible to use Global Entry kiosks and Global Entry participants are eligible to use NEXUS lanes and marine reporting locations when entering the United States, as well as SENTRI lanes. Additionally, SENTRI participants are permitted to use NEXUS lanes and marine reporting locations when entering the United States and NEXUS participants are permitted to use SENTRI lanes.

Table 1—Trusted Traveler Programs' Shared Benefits
Dedicated processing through | Trusted traveler program: SENTRI | Trusted traveler program: Global entry | Trusted traveler program: NEXUS
SENTRI Lanes | X | X | X
Global Entry Kiosks | * X | X | ** X
NEXUS Lanes (into U.S.) | X | X | X
NEXUS Marine Reporting Stations (into U.S.) | X | X | X
NEXUS Lanes (into CAN) |  |  | X
NEXUS Marine Reporting Stations (into CAN) |  |  | X
Automated Air Kiosks (into CAN) |  |  | X
* U.S. citizens and lawful permanent residents may use this benefit. Mexican nationals may only use this benefit upon successful completion of a thorough risk assessment by the Mexican government.
** NEXUS participants may use this benefit if they meet all Global Entry processing requirements, including having a valid travel document (e.g., book passport).

Despite the nearly identical application process and the nearly reciprocal benefits each program has with one another, each of these trusted traveler programs still had its own fee. As such, CBP is harmonizing the application fee for these three trusted traveler programs. CBP has determined that a fee of $120 is necessary in order to recover a reasonable portion of the costs associated with application processing for the Global Entry, SENTRI, and NEXUS trusted traveler programs.²⁵ The fee study documenting the fee change, has been included on the docket of this rulemaking (docket number USCBP-2020-0035).²⁶ Table 2 presents the components of the new harmonized fee.

²⁵ CBP notes that ⅔ of the revenue from NEXUS applicants goes to the United States government and the remaining ⅓ of revenue from NEXUS applicants goes to the Canadian government. Therefore, even though the fee calculated below is set to recover the costs of the program, the United States will only receive ⅔ of the revenue necessary to cover its costs of the NEXUS program. CBP considers the revenue to be sufficient to cover a reasonable portion of the costs. CBP has not adjusted the fee higher to account for this because doing so would cause applicants to SENTRI and Global Entry to subsidize the costs of the NEXUS program.

²⁶ During the NPRM for this rule, CBP used the estimates on enrollment numbers for SENTRI and Global Entry programs from `The CBP Trusted Traveler Programs Fee Study.' As significant time has passed, CBP has updated the historical and projected enrollment numbers for SENTRI and Global Entry programs in the economic analysis for this final rule. The harmonized $120 fee calculated in the `The CBP Trusted Traveler Programs Fee Study,' was agreed to with Canada. As it was based on recent, though not completely up to date, data, CBP is not revising the fee amount in this rule.

Table 2—New Trusted Traveler Programs Fee
(1) TTP System/GES | $17.17
(2) FBI Fingerprinting | 14.50
(3) Enrollment Center | 52.54
(4) Vetting Center | 14.47
(5) RFID Card | 15.87
(6) HQ Staff, Call Center, and Miscellaneous | 2.54
Sum | 117.09
Calculated Fee, rounded up to the nearest $5.00 | 120.00

Although CBP is harmonizing the fee for the Global Entry, SENTRI, and NEXUS trusted traveler programs, this rule only concerns changes to the fee for the Global Entry and SENTRI trusted traveler programs. Pursuant to 8 U.S.C. 1753(c), the fee setting of a joint U.S.-Canada project, such as the NEXUS program, is exempt from the Administrative Procedure Act. Accordingly, changes to the NEXUS fee are being announced in a separate Federal Register notice.

Below are brief descriptions of the Global Entry and SENTRI trusted traveler programs and an explanation of their original fee structures (for details regarding the NEXUS trusted traveler program, please refer to the NEXUS website at http://www.cbp.gov/travel/trusted-traveler-programs/nexus):

a. SENTRI

The SENTRI program allows pre-approved, low-risk, travelers dedicated CBP processing at specified land border ports along the U.S.-Mexico border. The SENTRI program originally had a fee of $122.25. This fee was comprised of three parts: a $25 application fee, an $82.75 DCL fee, and a $14.50 FBI fingerprinting fee for applicants 14 years of age or older.²⁷ Prior to the effective date of this rule, unlike Global Entry and NEXUS, SENTRI applicants did not pay the entire fee when submitting their application. Initially, a SENTRI applicant was only required to pay the $25 application fee. Payment of the $14.50 FBI fingerprinting fee and the $82.75 DCL fee was only required if a SENTRI applicant was conditionally approved for membership in the program.

²⁷ Data provided by subject matter experts from CBP's Office of Admissibility and Passenger Programs, Trusted Traveler Programs Division, Office of Field Operations on May 23, 2018. Also, on March 19, 2012, the FBI fingerprinting fee decreased from $17.25 to $14.50 (76 FR 78950).

In order to lessen the financial burden for families applying to the SENTRI trusted traveler program, CBP placed a cap on the maximum amount that a family was required to pay for the application and DCL components of the SENTRI program fee. As shown in Table 3, these caps were $50 and $165.50, respectively, or the rough equivalent to the cost of two applicants. For the purposes of the SENTRI program prior to this rule, CBP considered a family to be one or more parents or legal guardians, and minors under 18 years of age.²⁸ In fiscal year (FY) 2022, CBP received $15.6 million in SENTRI fee revenue.29 30

²⁸ Note that the new SENTRI regulation implemented in this final rule does not rely upon a definition of “family” or include a “family option” plan. Rather, any minor applying concurrently with a parent or legal guardian or whose parent or legal guardian is already a participant of SENTRI is exempt from payment of the SENTRI application fee.

²⁹ Data provided by subject matter experts from CBP's Office of Admissibility and Passenger Programs, Trusted Traveler Programs Division, Office of Field Operations on February 7, 2023.

³⁰ In addition to requiring individuals to apply to the SENTRI program, CBP requires that vehicles be approved by CBP for use in SENTRI lanes. The SENTRI program fee includes the registration of one vehicle during the initial application or renewal process. A fee of $42 is required for any additional vehicle to be registered for use in SENTRI lanes (maximum of four vehicles) or for the participant to register his or her first vehicle after the initial application or renewal process. The total SENTRI fee revenue includes fees associated with vehicle registration. This rule will not change these aspects of the SENTRI program.

Table 3—Illustrative SENTRI Fee Family Option Plan
Fee component | Family member | Cost
Application | Parent or Legal Guardian | $25 per person until the maximum family cap of $50 is reached.
| Parent or Legal Guardian
| Minors 14-17 years of age
| Minors under 14 years of age
DCL | Parent or Legal Guardian | $82.75 per person until the maximum family cap of $165.50 is reached.
| Parent or Legal Guardian
| Minors 14-17 years of age
| Minors under 14 years of age
FBI Fingerprinting | Parent or Legal Guardian | $14.50.
| Parent or Legal Guardian | $14.50.
| Minors 14-17 years of age | $14.50.
| Minors under 14 years of age | $0.
Note: for the purpose of illustration this table shows a family as up to two parents with minors of differing ages. However, CBP acknowledges that a family could be a single parent with minors of differing ages or a legal guardian(s) with minors of differing ages. Also, see footnote 15, above, noting that the new SENTRI regulation does not rely upon a definition of “family.”

b. Global Entry

The Global Entry program allows pre-approved, low-risk travelers dedicated CBP processing at designated airports. The Global Entry program originally had a fee of $100. In FY 2022, CBP received $252.7 million in Global Entry fee revenue.³¹

³¹ Revenue data provided by CBP's Office of Admissibility and Passenger Programs, Trusted Traveler Programs Division, Office of Field Operations on February 7, 2023.

3. Costs

This final rule harmonizes the required fee when applying for membership in the Global Entry and SENTRI trusted traveler programs. The Global Entry and SENTRI programs originally had fees of $100 and $122.25, respectively. As discussed above, CBP has determined that a fee of $120 is necessary in order to recover a reasonable portion of the costs associated with application processing for CBP's trusted traveler programs. In addition to the fee changes, CBP is revising the SENTRI fee payment schedule; exempting minors from paying the fee if one or more parents or legal guardians are already a participant of or concurrently applying for Global Entry or SENTRI; requiring all SENTRI applicants to apply and pay electronically; requiring that additional SENTRI program vehicle registrations be paid for electronically; and eliminating the DCL fee currently applicable to only approved SENTRI participants.

When assessing costs of final rules, agencies must take care to not include transfer payments in their cost analysis. As described in OMB Circular A-4, transfer payments occur when “. . . monetary payments from one group [are made] to another [group] that do not affect total resources available to society.” ³² Examples of transfer payments include payments for insurance and fees paid to a government agency for services that an agency already provides.³³ The Global Entry and SENTRI trusted traveler programs are established programs that already require a fee in order to participate. Prior to this final rule, fees did not cover the entire costs to CBP for administering these programs and unreimbursed costs were covered by appropriated funds. Accordingly, the fee changes, including changes in who is exempt, to the trusted traveler programs do not increase overall costs to society as these unreimbursed costs are already being paid by appropriated funds. As such, a change to the fee associated with each program is considered a transfer payment. CBP does recognize that the fee changes may have a distributional impact on individuals and families applying or renewing their membership in either the Global Entry or SENTRI trusted traveler program. In order to inform stakeholders of all potential effects of the final rule, CBP has analyzed the distributional effects of the final rule below in section “V. A. 4. Distributional Impacts.”

³² OMB Circular A-4: https://www.whitehouse.gov/wp-content/uploads/legacy_drupal_files/omb/circulars/A4/a-4.pdf.

³³ Regulatory Impact Analysis: Frequently Asked Questions (FAQ): https://www.whitehouse.gov/wp-content/uploads/legacy_drupal_files/omb/assets/OMB/circulars/a004/a-4_FAQ.pdf.

In addition to adjusting the fees required for membership in the Global Entry and SENTRI trusted traveler programs, CBP is requiring that all SENTRI applicants apply and pay the requisite application fee electronically and pay the vehicle registration fee electronically.³⁴ CBP estimates that it takes the same amount of time to complete the electronic SENTRI application and make an electronic payment for the application and registration fee as it does to complete a paper SENTRI application and vehicle registration and make a payment by cash or check at an enrollment center. CBP believes that requiring an electronic application and payment is necessary to increase efficiency of the SENTRI program application and SENTRI vehicle registration process. Additionally, this further harmonizes the three trusted traveler programs because electronic applications and payments are a current CBP requirement for the Global Entry and NEXUS programs.³⁵ CBP recognizes that applying and paying for the SENTRI program and vehicle registrations electronically requires internet access and those without readily available internet access will have to visit a facility that provides internet access to the public (e.g., a library). However, in 2022, CBP received 232,026 SENTRI applications and 105,063 SENTRI vehicle enrollment applications, all of which were submitted electronically (no paper submissions).³⁶ Applicants would not likely opt to file electronically if it were more burdensome to do so. For this reason, CBP assumes that no applicants will need to travel to access the internet for the purpose of paying the required fee. To the extent that someone does need to travel to obtain internet access, they will incur small opportunity and transportation costs. CBP notes that the SENTRI program is a voluntary program and that all individuals must determine if the benefits of receiving dedicated CBP processing either meet or exceed the costs of joining the SENTRI program.

³⁴ CBP notes, however, that this rule does not change the vehicle fee and each SENTRI participant will continue to receive one vehicle registration for no additional cost when either renewing or applying to the SENTRI program.

³⁵ A NEXUS applicant may submit a paper application to apply to the NEXUS program. This is a CBSA form, not a CBP form. As such, the paper NEXUS application is sent to CBSA, processed, and input by CBSA. CBP's NEXUS application and application submission are completely electronic.

³⁶ Data provided from CBP's Borderstat Database by subject matter experts from CBP's Office of Admissibility and Passenger Programs, Trusted Traveler Programs Division, Office of Field Operations on February 21, 2023. CBP notes that the average time to complete a SENTRI application is approximately one year. This represents the time between when the application is received and the final decision on enrollment into the SENTRI program. Therefore, applications submitted in a given year are not always comparable to the number of enrollments.

In addition to shifting the applications and vehicle registrations to be completed electronically, CBP is codifying SENTRI vehicle inspection changes that have previously been implemented. Formerly, the SENTRI vehicle inspection took place at the enrollment center. On November 17, 2015, CBP changed this inspection process and notified affected applicants and SENTRI participants of the new process by email. Under the new vehicle inspection process, which is still in effect, a vehicle must be approved by CBP for use in the SENTRI lanes and subsequently inspected at secondary inspection during one of the vehicle's crossings into the United States at CBP's discretion. Despite not having an inspection at the time of enrollment, vehicles remain subject to inspections at the time of crossing through random inspection. The SENTRI vehicle inspection changes resulting from this rule will not result in additional benefits or costs to CBP trusted traveler program participants because the changes have already been implemented and because no additional trip to an enrollment center is needed for the inspection.

Along with the regulatory changes discussed above, CBP will implement changes to the information collection associated with the trusted traveler programs (OMB control number 1651-0121). The change will require a minor applying for membership in either the Global Entry or SENTRI trusted traveler program whose one or more parents or legal guardians are already a participant of the same program to submit his or her parents' or legal guardians' names and trusted traveler number. As discussed below, in section “V. E. Paperwork Reduction Act,” CBP estimates that this information collection will take approximately two minutes (0.0333 hours). CBP's trusted traveler database does not track which minors concurrently apply to a trusted traveler program with one or more parents or legal guardians and which minors apply after one or more parents or legal guardians joined a trusted traveler program. CBP subject matter experts from CBP's Office of Admissibility and Passenger Programs estimate that two percent of minors (or parents/legal guardians acting on their behalf) apply for membership in a trusted traveler program after one or more parents or legal guardians have already joined a trusted traveler program and, as such, will be subject to the information collection.

Table 4 shows historical data on the number of minor applicants that enrolled in Global Entry and SENTRI from 2015 to 2022, while Table 5 shows the estimated number of minor Global Entry and SENTRI applications over the period of analysis spanning from 2023 to 2027.37 38 CBP based the 2023 through 2027 minor SENTRI enrollment application figures shown in Table 5 on the compound annual growth rate (CAGR) of minor SENTRI enrollment applications between 2015 and 2022, which is equal to six percent, applied to the number of minor SENTRI applications in each prior year. To estimate the 2023 through 2027 minor Global Entry enrollment applications, CBP applied the 2015 to 2022 CAGR of minor Global Entry enrollment applications of 14 percent to the number of minor Global Entry enrollment applications in each prior year.

³⁷ Data from CBP's Borderstat database provided by subject matter experts from CBP's Office of Admissibility and Passenger Programs, Trusted Traveler Programs Division, Office of Field Operations on May 23, 2018, June 22, 2021, and February 21, 2023.

³⁸ Data displayed in tables throughout this analysis are in calendar years unless otherwise noted.

Table 4—Historical Minor Enrollment Applications for SENTRI and Global Entry, 2015-2022
Year | Total minor SENTRI enrollment applications | Total minor global entry enrollment applications
2015 | 25,003 | 59,670
2016 | 37,102 | 94,631
2017 | 34,924 | 99,232
2018 | 32,245 | 101,209
2019 | 19,707 | 82,720
2020 * | 13,573 | 38,207
2021 | 33,175 | 78,639
2022 | 38,622 | 152,530
Total | 234,351 | 706,838
* Due to the COVID-19 Pandemic, international travel halted, significantly disrupting the SENTRI and Global Entry programs.
Note: Totals may not sum due to rounding.

Table 5—Estimated Minor SENTRI and Global Entry Enrollment Applications, 2023-2027
Year | Total minor SENTRI enrollment applications | Total minor global entry enrollment applications
2023 | 40,939 | 173,884
2024 | 43,396 | 198,228
2025 | 45,999 | 225,980
2026 | 48,759 | 257,617
2027 | 51,685 | 293,683
Total | 230,778 | 1,149,392
Note: Totals may not sum due to rounding.

As previously stated, CBP subject matter experts from CBP's Office of Admissibility and Passenger estimate that two percent of minors (or parents/legal guardians acting on their behalf) apply for membership in a trusted traveler program after one or more parents or legal guardians have already joined a trusted traveler program. As such, CBP estimates that only two percent of the projected minor Global Entry and SENTRI applicants shown in Table 5 will be subject to the rule's proposed application information collection requiring the submission of the name and trusted traveler number of an applicant's parent(s) or legal guardian(s). These applicants will incur a two-minute (0.0333-hour) time burden to submit this information, at a time cost of $1.57 for Global Entry applicants and $0.68 for SENTRI applicants.³⁹ Based on the hourly time values of $47.10 for Global Entry applicants and $20.40 for SENTRI applicants.⁴⁰ Using the projected number of minor Global Entry and SENTRI future applicants subject to the new information collection and the estimated time costs to complete the new information collection, CBP estimates that it will cost minors (or parents/legal guardians acting on their behalf) $39,232 in opportunity (or time) costs to complete the information collection over the five-year period of analysis. In the first year (2023), CBP estimates that the new information collection pursuant to this rule will cost minors (or parents/legal guardians acting on their behalf) $6,017. Table 6 shows the number of minor Global Entry and SENTRI applicants required to submit the name and trusted traveler number of one or more parents or legal guardians and their annual cost to complete this information collection.

³⁹ $20.40 hourly time value for SENTRI applicants × 0.0333-hour time burden to complete new information collection = $0.68 (rounded); $47.10 hourly time value for Global Entry applicants × 0.0333-hour time burden to complete new information collection = $1.57 (rounded).

⁴⁰ CBP bases the $20.40 hourly time value for SENTRI applicants on the U.S. Department of Transportation's (DOT) hourly time value of $20.40 for all-purpose, intercity travel by surface modes (except high-speed rail). CBP used this hourly time value for all-purpose, intercity travel by surface modes for SENTRI applicants because SENTRI members use the program to travel to the United States by land. CBP bases the $47.10 hourly time value for Global Entry applicants on the DOT's hourly time value of $47.10 for all-purpose, intercity travel by air and high-speed rail. CBP used this hourly time value for all-purpose, intercity travel by air and high-speed rail for Global Entry applicants because Global Entry members primarily use the program to travel to the United States by air. Source: U.S. Department of Transportation, Office of Transportation Policy. The Value of Travel Time Savings: Departmental Guidance for Conducting Economic Evaluations Revision 2 (2016 Update). “Table 4 (Revision 2—2016 Update): Recommended Hourly Values of Travel Time Savings.” September 27, 2016. Available at https://www.transportation.gov/sites/dot.gov/files/docs/2016%20Revised%20Value%20of%20Travel%20Time%20Guidance.pdf. Accessed May 25, 2022.

Table 6—Total Cost to Complete the Information Collection for Minors, 2023-2027
[Undiscounted 2022 U.S. dollars]
Year | 2% of minor SENTRI applicants | 2% of minor global entry applicants | Cost to minor SENTRI applicants | Cost to minor global entry applicants | Total cost to minor SENTRI and global entry applicants
2023 | 819 | 3,478 | $557 | $5,460 | $6,017
2024 | 868 | 3,965 | 590 | 6,225 | 6,815
2025 | 920 | 4,520 | 626 | 7,096 | 7,722
2026 | 975 | 5,152 | 663 | 8,089 | 8,752
2027 | 1,034 | 5,874 | 703 | 9,222 | 9,925
Total 2021-2025 | 4,616 | 22,989 | 3,139 | 36,093 | 39,232
Note: Totals may not sum due to rounding.

Total Costs

Table 7 summarizes the costs of this rule for minors to apply to the Global Entry and SENTRI programs after one or more parents or legal guardians have already done so. Altogether, this rule will impose a total discounted cost on minors from 2023 to 2027 of $31,633 in present value and $7,715 on an annualized basis (using a 7 percent discount rate and 2022 U.S. dollars).

Table 7—Total Monetized Present Value and Annualized Costs of Rule, 2023-2027
[2022 U.S. dollars]
| 3% discount rate | 7% discount rate
Present Value Cost | $35,670 | $31,633
Annualized Cost | 7,789 | 7,715
Note: The estimates in this table are contingent upon CBP's projections as well as the discount rates applied.

4. Distributional Impacts

a. SENTRI

Pursuant to this final rule, the SENTRI fee will decrease from $122.25 to $120, the entire SENTRI fee will be required to be paid when submitting a SENTRI program application, and minors will be exempt from the SENTRI program fee when one or more parents or legal guardians are either a participant of or concurrently applying for SENTRI. Table 8 shows the historical approved adult SENTRI applicants from 2015 to 2022.⁴¹

⁴¹ Data from CBP's Borderstat database provided by subject matter experts from CBP's Office of Admissibility and Passenger Programs, Trusted Traveler Programs Division, Office of Field Operations on May 23, 2018, June 22, 2021, and February 21, 2023.

Table 8—Historical Approved Adult SENTRI Applicants, 2015-2022
Year | Total SENTRI enrollment applications approved applicants age 18 or older
2015 | 55,209
2016 | 88,163
2017 | 91,468
2018 | 84,195
2019 | 66,916
2020 * | 58,994
2021 | 131,811
2022 | 129,260
Total | 706,016
* Due to the COVID-19 Pandemic, international travel halted significantly disrupting the SENTRI program.
Note: Totals may not sum due to rounding.

The SENTRI program fee decrease is estimated to save individuals 18 years of age or older $2.25 over a five-year period (an average of $0.45 per year) when they either apply for SENTRI for the first time or renew their SENTRI membership. Using the above historical data in Table 8 and the 13 percent CAGR of approved adult SENTRI applications between 2015 and 2022, CBP estimates that over the five-year period of analysis from 2023 to 2027, 946,533 adults (189,307 adults per year on average) will either join the SENTRI program or renew their memberships. Based on these projected memberships, CBP estimates that the fee decrease will result in decreased transfer payments from SENTRI applicants to the U.S. Government of approximately $2,129,699 ($425,940 per year on average) over the five-year period of analysis (946,533 estimated SENTRI applications × $2.25 fee decrease = $2,129,699). This is shown in Table 9 below. CBP notes that the SENTRI program is a voluntary program, and each renewing or prospective participant must determine if the benefits of dedicated CBP processing into the United States will equal or exceed the costs of the program. CBP compares these benefits and costs below in section “V. A. 8. Benefits and Breakeven Analysis.”

Table 9—Decrease in Transfer Payments From Adult SENTRI Applicants to CBP as a Result of This Rule, 2023-2027
[Undiscounted 2022 U.S. dollars]
Year | Approved adult SENTRI enrollment applications | Transfers based on old fee of $122.25 | Transfers based on new fee of $120 | Decrease in transfers from applicants
2023 | 146,064 | $17,856,324 | $17,527,680 | $328,644
2024 | 165,052 | 20,177,607 | 19,806,240 | 371,367
2025 | 186,509 | 22,800,725 | 22,381,080 | 419,645
2026 | 210,755 | 25,764,799 | 25,290,600 | 474,199
2027 | 238,153 | 29,114,204 | 28,578,360 | 535,844
Total | 946,533 | 115,713,659 | 113,583,960 | 2,129,699
Note: Totals may not sum due to rounding.

In addition to decreasing the fee for the SENTRI program, CBP is requiring that the entire fee be paid when submitting an application. Originally, renewing and prospective SENTRI participants were only required to pay a $25 application fee when submitting a SENTRI program application and an applicant was not responsible for the remaining fee components, including the $14.50 FBI fingerprinting fee and the $82.75 DCL fee, if they did not receive a conditional approval. Under this final rule, a SENTRI applicant who does not receive a conditional approval will see a $95 increase in price ([$120 new SENTRI fee−$25 current SENTRI application fee] = $95). As previously mentioned, this new fee does not include any costs related to DCLs because the technology deployed, and costs associated with the creation of DCLs, are no longer necessary and CBP is eliminating the fee with this rule. CBP estimates that over the last four years, an average of approximately 7,266 individuals per year did not receive a conditional approval when applying for the SENTRI program.⁴² Using this annual average over the last four years as a projection of SENTRI applicants who will not receive a conditional approval over the period of analysis, and assuming that these applicants are adults, CBP estimates that SENTRI applicants who do not receive a conditional approval will transfer up to an additional $3,451,350 to the U.S. Government pursuant to the changes implemented by this rule between 2023 and 2027, or $690,270 per year (7,266 SENTRI applicants not receiving a conditional approval * $95 = $690,270 * 5 years = $3,451,350). This is shown in Table 10 below.⁴³

⁴² Data from CBP's Borderstat database provided by subject matter experts from CBP's Office of Admissibility and Passenger Programs, Trusted Traveler Programs Division, Office of Field Operations on March 5, 2021, and February 21, 2023.

⁴³ CBP's original estimate in the NPRM for this rule erroneously included the FBI fingerprinting fee of $14.50 in the amount paid by SENTRI applicants before conditional approval. However, the FBI fingerprinting fee is actually collected after a SENTRI applicant has been or not been conditionally approved. Therefore, CBP adjusted these estimates since the NPRM and now for the final rule these estimates correctly reflect that SENTRI applicants who are not conditionally approved will experience their fee increase from $25 to $120 under the rule as opposed to the original estimate of a fee increase from $39.50 to $120.

Table 10—Estimated Increase in Transfer Payments From Adult SENTRI Applicants to CBP as a Result of the Rule, 2023-2027
[Undiscounted 2022 U.S. dollars] *
Year | SENTRI applications without conditional approval | Transfer based on old fee of $25 | Transfer based on new fee of $120 | Increase in transfers from applicants
2023 | 7,266 | $181,650 | $871,920 | $690,270
2024 | 7,266 | 181,650 | 871,920 | 690,270
2025 | 7,266 | 181,650 | 871,920 | 690,270
2026 | 7,266 | 181,650 | 871,920 | 690,270
2027 | 7,266 | 181,650 | 871,920 | 690,270
Total | 36,330 | 908,250 | 4,359,600 | 3,451,350
* CBP assumes, for the purposes of this analysis, that the applicants included in this table who do not receive conditional approval for their SENTRI applications are adults.
Note: Totals may not sum due to rounding.

This rule also exempts minors from paying the SENTRI fee when one or more parent or legal guardian is a participant of or concurrently applies for SENTRI. As shown in Table 3, CBP originally placed a cap on the maximum amount a family was required to pay for the application and DCL components of the SENTRI program fee. For the purposes of the SENTRI program prior to this rule, a family was considered to be one or more parents or legal guardians and minors under 18 years of age. Upon the effective date of this rule, CBP will exempt minors from the SENTRI fee as long as one or more parents or legal guardians are a participant of or concurrently applying for SENTRI. CBP's SENTRI database does not track which participants have family participants that also participate in the program. As such, CBP is unable to determine how many families will benefit, or the extent to which they will benefit, from this change. However, assuming that in the absence of this rulemaking, future SENTRI applicants under 18 years of age will largely be exempt from the SENTRI fee because of the existing SENTRI fee exemptions for minors, this rule's fee exemption for minors will have no impact on transfer payments between minor SENTRI applicants and CBP during the period of analysis. CBP presents two examples below in Table 11 to illustrate the possible savings that a family may receive under the final rule.

Table 11—Illustrative Examples of the SENTRI Program Savings
Example | Fee structure | Cost | Change from original fee structure
A single parent or legal guardian and one 14-year-old minor child apply for the SENTRI program | Original | $244.50 ([2 individuals * $25 application fee = $50] + [2 individuals * $82.75 DCL fee = $165.50] + [2 individuals * $14.50 FBI fingerprinting fee = $29] = $244.50) | No change.
| New | $120 ([1 adult * $120 SENTRI program fee] + [1 minor under 18 years of age * $0 SENTRI program fee] = $120) | Savings of $124.50 ($244.50−$120 = $124.50).
A family of four comprising of two parents or legal guardians, and two 14-year-old minor children apply for the SENTRI program | Original | $273.50 ([4 individuals * $25 application fee = $50 family cap] + [4 individuals * $82.75 DCL fee = $165.50 family cap] + [4 individuals * $14.50 FBI fingerprinting fee = $58] = $273.50) | No change.
| New | $240 ([2 adult * $120 SENTRI program fee] + [2 minors under 18 years of age * $0 SENTRI program fee] = $240) | Savings of $28 ($268−$240 = $28).

b. Global Entry

Under the final rule, the Global Entry program fee will increase from $100 to $120 and minors will be exempt from the Global Entry program fee when one or more parents or legal guardians are either a participant of or are concurrently applying for Global Entry. CBP acknowledges that prior to the fee change, some private credit card companies reimbursed the full amount of the $100 application fee to Global Entry applicants. Unfortunately, CBP does not have data available on the number of Global Entry applicants receiving such reimbursement. Therefore, CBP is unable to project the number of applicants who may or may not receive fee reimbursements in the future as a result of the increased fee from $100 to $120. In any case, regardless of whether the applicant is reimbursed by his or her credit card company, CBP still receives the payment of the fee. Therefore, CBP does not account for instances where a Global Entry applicant is reimbursed the fee by a private credit card company, when estimating the costs and benefits of this rule. Table 12 below details the historical approved adult Global Entry applications from 2015 to 2022.⁴⁴

⁴⁴ Data from CBP's Borderstat database provided by subject matter experts from CBP's Office of Admissibility and Passenger Programs, Trusted Traveler Programs Division, Office of Field Operations on May 23, 2018, June 22, 2021, and February 21, 2023.

Table 12—Historical Approved Adult Global Entry Applications, 2015-2022
Year | Total approved adult GE enrollment applications
2015 | 770,875
2016 | 1,154,854
2017 | 1,397,685
2018 | 1,455,383
2019 | 1,607,717
2020 * | 802,598
2021 | 1,586,181
2022 | 2,287,552
Total | 11,052,845
* Due to the COVID-19 Pandemic, international travel halted, significantly disrupting the Global Entry program.

The Global Entry program fee increase will cost individuals 18 years of age or older an additional $20 over a five-year period (an additional $4 per year) when they either apply for the Global Entry trusted traveler program for the first time or renew their Global Entry membership. Considering the above historical data in Table 12 and the 17 percent CAGR of approved adult Global Entry applications between 2015 and 2022, CBP estimates that 18,773,592 adults (3,754,718 adults per year) will either renew or apply to join the Global Entry program over the period of analysis. Using this figure, CBP estimates that the fee increase will result in an increased transfer payment from Global Entry applicants to the U.S. Government (namely, CBP) of $375,471,840 from 2023 to 2027 (18,773,592 estimated Global Entry applicants * $20 fee increase = $375,471,840). In 2023, the fee increase will result in an increased transfer payment of $53,528,720. This is shown in Table 13 below. CBP notes that the Global Entry program is a voluntary program, and each renewing or prospective participant must determine if the benefits of dedicated CBP processing into the United States will equal or exceed the costs of the program. CBP compares these benefits and costs below in section “V. A. 8. Benefits and Breakeven Analysis.”

Table 13—Increase in Transfer Payments From Adult Global Entry Applicants to CBP as a Result of the Rule, 2023-2027
[Undiscounted 2022 U.S. dollars]
Year | Approved adult global entry applications | Transfer based on old fee of $100 | Transfer based on new fee of $120 | Increase in transfers from applicants
2023 | 2,676,436 | $267,643,600 | $321,172,320 | $53,528,720
2024 | 3,131,430 | 313,143,000 | 375,771,600 | 62,628,600
2025 | 3,663,773 | 366,377,300 | 439,652,760 | 73,275,460
2026 | 4,286,614 | 428,661,400 | 514,393,680 | 85,732,280
2027 | 5,015,339 | 501,533,900 | 601,840,680 | 100,306,780
Total | 18,773,592 | 1,877,359,200 | 2,252,831,040 | 375,471,840
Note: Totals may not sum due to rounding.

This rule also exempts minors from the Global Entry fee when one or more parents or legal guardians is a participant of or concurrently applies for Global Entry. Originally, all Global Entry applicants were required to pay the full $100 fee. CBP's Global Entry database does not track which participants have family participants that also participate in the program. As such, CBP is unable to determine how many families will benefit, or the extent to which they will benefit, from the change. However, assuming that all minor Global Entry applicants will be exempt from the applicant fee based on their one or more parents' or legal guardians' concurrent application or membership, this fee change will affect up to 1,149,392 minor Global Entry applicants (see Table 5) and result in a maximum of $114,939,200 in fee savings to these applicants (and their respective families). CBP presents the example below in Table 14 to illustrate the possible savings that a family may receive under the final rule. Table 15 shows the potential decrease in transfer payments from minor Global Entry applicants to CBP as a result of this rule under the assumption that all minor Global Entry applicants will be exempt from the applicant fee with this rule based on their one or more parents' or legal guardians' concurrent Global Entry application or membership.

Table 14—Illustrative Example of the Global Entry Program Savings
Example | Fee structure | Cost | Change from original fee structure
A single parent or legal guardian and one 14-year-old minor child apply for the Global Entry program | Original | $200 ([1 adult * $100 current Global Entry program fee] + [1 minor under 18 years of age * $100 current Global Entry program fee] = $200) | No change.
| New | $120 ([1 adult * $120 Global Entry program fee] + [1 minor under 18 years of age * $0 Global Entry program fee] = $120) | Savings of $80 ($200−$120 = $80).
A family of four comprising two parents or legal guardians and two minor children under 18 years of age apply for the Global Entry program | Original | $400 ([2 adults * $100 current Global Entry program fee] + [2 minors under 18 years of age * $100 current Global Entry program fee] = $400) | No change.
| New | $240 ([2 adults * $120 Global Entry program fee] + [2 minors under 18 years of age * $0 Global Entry program fee] = $240) | Savings of $160 ($400−$240 = $160).

Table 15—Potential Decrease in Transfer Payments From Minor Global Entry Applicants to CBP as a Result of the Rule, 2023-2027
[Undiscounted 2022 U.S. dollars]
Year | Minor global entry applicants | Transfer based on old fee of $100 | Transfer based on new fee of $0 | Potential decrease in transfers from applicants
2023 | 173,884 | $17,388,400 | $0 | $17,388,400
2024 | 198,228 | 19,822,800 | 0 | 19,822,800
2025 | 225,980 | 22,598,000 | 0 | 22,598,000
2026 | 257,617 | 25,761,700 | 0 | 25,761,700
2027 | 293,683 | 29,368,300 | 0 | 29,368,300
Total | 1,149,392 | 114,939,200 | 0 | 114,939,200
Note: Totals may not sum due to rounding.

5. Total Monetized Decrease in Transfer Payments to U.S. Government

Table 16 summarizes the total monetized decrease in transfer payments from the Global Entry and SENTRI applicants to CBP as a result of this final rule (see Table 9 and Table 15). Altogether, this rule could result in a total discounted decrease in monetized transfer payments from Global Entry and SENTRI applicants to the U.S. Government from 2023 to 2027 ranging from $94.3 million to $106.4 million in present value and $23.0 million to $23.2 million on an annualized basis, depending on the discount rate used.

Table 16—Total Potential Monetized Present Value and Annualized Decrease in Transfer Payment From Applicants to CBP as a Result of the Rule, 2023-2027
[2022 U.S. dollars]
| 3% Discount rate | 7% Discount rate
Present Value Decrease in Transfer Payment | $106,406,193 | $94,322,091
Annualized Decrease in Transfer Payment | 23,234,279 | 23,004,280
Note: The estimates in this table are contingent upon CBP's projections as well as the discount rates applied.

6. Total Monetized Increase in Transfer Payments to U.S. Government

Table 17 summarizes the total monetized increase in transfer payments from the Global Entry and SENTRI applicants to CBP as a result of this final rule. Altogether, this rule could result in a total discounted increase in monetized transfer payments from Global Entry and SENTRI applicants to the U.S. Government from 2023 to 2027 (see Table 10 and Table 13) ranging from $304.3 million to $343.9 million in present value and $74.2 million to $75.1 million on an annualized basis, depending on the discount rate used.

Table 17—Total Potential Monetized Present Value and Annualized Increase in Transfer Payments From Applicants to CBP as a Result of the Rule, 2023-2027
[2022 U.S. dollars]
| 3% Discount rate | 7% Discount rate
Present Value Increase in Transfer Payments | $343,919,284 | $304,296,025
Annualized Increase in Transfer Payments | 75,096,348 | 74,214,969
Note: The estimates in this table are contingent upon CBP's projections as well as the discount rates applied.

7. Net Transfer Payments to U.S. Government

Table 18 illustrates the potential monetized net transfer payments of this rule from Global Entry and SENTRI applicants to the U.S. Government (namely, CBP). As shown, the total monetized present value net transfer payment of this rule from applicants to the U.S. Government over the five-year period of analysis from 2023 to 2027 could range from approximately $210.0 million to $237.5 million. The annualized net transfer payment could measure between $51.2 million and $51.9 million over the period of analysis.

Table 18—Total Potential Monetized Present Value and Annualized Net Transfer Payments of Rule, 2023-2027
[2022 U.S. dollars]
| 3% Discount rate: Present value | 3% Discount rate: Annualized | 7% Discount rate: Present value | 7% Discount rate: Annualized
Total Decrease in Transfer Payments from Applicants to CBP | $106,406,193 | $23,234,279 | $94,322,091 | $23,004,280
Total Increase in Transfer Payments from Applicants to CBP | 343,919,284 | 75,096,348 | 304,296,025 | 74,214,969
Total Net Transfer Payments from Applicants to CBP | 237,513,091 | 51,862,069 | 209,973,935 | 51,210,689
Note: The estimates in this table are contingent upon CBP's projections as well as the discount rates applied.

8. Benefits and Breakeven Analysis

CBP is exempting minors from paying the trusted traveler program fee when one or more parents or legal guardians is a participant of or concurrently applying for membership in the same program to which the minor is applying. Originally, minors applying for the Global Entry program were required to pay the full $100 program fee. Minors applying for the SENTRI program, however, could be exempt from certain SENTRI fee components (see Table 3). In addition, to lessen the financial burden for families applying to the SENTRI trusted traveler program, CBP originally placed a cap on the maximum amount that a family was required to pay for the application and DCL components of the SENTRI program fee. The maximum caps were $50 and $165.50, respectively. For the purposes of the SENTRI program prior to this rule, CBP considered a family to be one or more parents or legal guardians, and minors under 18 years of age.

The fee exemption for certain minors pursuant to this rule is a reduction in a transfer payment. As such, this change is not considered a benefit of this rule to society. CBP does recognize, however, that the fee changes may have a positive distributional impact on individuals and families applying or renewing their memberships in either the Global Entry or SENTRI trusted traveler program. In order to inform stakeholders of all potential effects of the final rule, CBP has analyzed the distributional effects of the final rule in section “V.A.4. Distributional Impacts.”

With this rule, CBP is codifying Global Entry benefits that have previously been implemented. These benefits allow the use of Global Entry in U.S. territories and preclearance facilities. These changes, however, will not confer additional benefits to trusted traveler program participants because they are currently operational. As such, these changes are not analyzed in this analysis.

Lastly, CBP is harmonizing the membership fee of $120 for the Global Entry, SENTRI, and NEXUS trusted traveler programs.⁴⁵ Although the trusted traveler programs all offer nearly reciprocal benefits with each other, the original Global Entry, SENTRI, and NEXUS fees were $100, $122.25, and $50, respectively. In addition to leading to potential confusion and charging of different prices for nearly the same product for prospective and renewing trusted traveler program participants, these different fees are no longer sufficient to recover CBP's costs to administer the programs. While not easily quantifiable, the fee harmonization will allow individuals to choose the trusted traveler program that meets their travel needs best rather than choosing a program based on the cost. Additionally, the harmonized fee will ensure that a reasonable portion of the CBP costs is recovered and that costs are more equitably distributed among all the trusted traveler program participants now that each program has nearly reciprocal benefits with the other programs.

⁴⁵ As discussed above, CBP will be issuing a separate Federal Register notice to change the NEXUS fee to $120.

The U.S. GAO conducted a review of the Global Entry, SENTRI, and NEXUS trusted traveler programs.⁴⁶ During this review, GAO observed 14 land border crossings that utilized SENTRI lanes. Of these 14 crossings, GAO observed 11 crossings where vehicles experienced a time savings of at least 15 minutes (0.25 hours) when crossing the U.S.-Mexico border compared to vehicles in traditional lanes. Considering these observed time savings and the assumed $20.40 hourly time value for SENTRI applicants, CBP estimates that a SENTRI participant saves approximately $5.10 per crossing ($20.40 estimated hourly time value * 0.25 hours of time savings = $5.10). Based on these time cost savings per crossing, CBP estimates that a SENTRI participant 18 years of age or older must make five crossings per year for the benefits of the SENTRI program to equal the cost of membership over the five-year period of analysis ($120 SENTRI fee ÷ 5 years of membership = $24 membership cost per year; $24 membership cost per year ÷ $5.10 estimated savings per crossing = 5 crossings per year (rounded up)).⁴⁷ This compares to the five crossings currently required under the baseline ($122.25 current SENTRI fee ÷ 5 years of membership = $24.45 membership cost per year; $24.45 membership cost per year ÷ $5.10 estimated savings per arrival = 5 crossings per year (rounded up)).

⁴⁶ Trusted Travelers: Programs Provide Benefits, but Enrollment Processes Could Be Strengthened; available at: http://www.gao.gov/products/GAO-14-483.

⁴⁷ This document does not change the current application and the interview process. Accordingly, these estimates do not account for the opportunity cost associated with applying and interviewing for the SENTRI trusted traveler program.

The GAO found that the average time savings for travelers using Global Entry kiosks is 10 minutes (0.1667 hours) to 27 minutes (0.45 hours). As referenced above, using DOT's guidance, CBP estimates a Global Entry applicant's hourly time value to be $47.10 per hour. Using this estimate and the minimum Global Entry time savings identified by GAO, CBP estimates that Global Entry participants save at least $7.85 per arrival ($47.10 estimated hourly time value * 0.1667 hours of minimum time savings = $7.85). Based on these minimum time cost savings per arrival, CBP estimates that a Global Entry participant 18 years of age or older must make four arrivals per year for the benefits of the Global Entry program to equal the cost of membership ($120 Global Entry fee ÷ 5 years of membership = $24 membership cost per year; $24 membership cost per year ÷ $7.85 estimated savings per arrival = 4 arrivals per year (rounded up)).⁴⁸ This compares to the three arrivals currently required under the baseline ($100 current Global Entry fee ÷ 5 years of membership = $20 membership cost per year; $20 membership cost per year ÷ $7.85 estimated savings per arrival = 3 arrivals per year (rounded up)).

⁴⁸ This document does not change the existing application and interview process. Accordingly, these estimates do not account for the opportunity cost associated with applying and interviewing for the Global Entry trusted traveler program.

B. Regulatory Flexibility Act

This section examines the impact of the rule on small entities as required by the Regulatory Flexibility Act (5 U.S.C. 601 et seq.), as amended by the Small Business Regulatory Enforcement and Fairness Act of 1996 (SBREFA). A small entity may be a small business (defined as any independently owned and operated business not dominant in its field that qualifies as a small business per the Small Business Act); a small not-for-profit organization; or a small governmental jurisdiction (locality with fewer than 50,000 people).

This rule will directly regulate individuals who are primarily not considered small entities under the Regulatory Flexibility Act, as amended by SBREFA. However, a small number of individuals may obtain the rule's trusted traveler benefit as a sole proprietor. When choosing to re-enroll in the Global Entry or SENTRI programs once this rule is in effect, these sole proprietors must determine if the benefit of receiving dedicated CBP processing still meets or exceeds the cost of joining one of these programs. If an individual voluntarily chooses to join the Global Entry or SENTRI program as a sole proprietor under this rule and he/she is approved for membership, he/she will incur a maximum cost of $20 per year (based on the new Global Entry enrollment fee change from $100 to $120 for adult applicants).⁴⁹ CBP does not believe that this cost will result in a significant economic impact. For these reasons, CBP certifies that the final rule will not have a significant economic impact on a substantial number of small entities.

⁴⁹ Under the final rule, a SENTRI applicant who does not receive a conditional approval will see an $80.50 increase in price compared to the baseline.

C. Unfunded Mandates Reform Act of 1995

This rule will not result in the expenditure by State, local, and Tribal governments, in the aggregate, or by the private sector, of $100 million or more in any one year (adjusted for inflation), and it will not significantly or uniquely affect small governments. Therefore, no actions are necessary under the provisions of the Unfunded Mandates Reform Act of 1995.

D. Executive Order 13132

The rule will not have substantial direct effects on the States, on the relationship between the National Government and the States, or on the distribution of power and responsibilities among the various levels of government. Therefore, in accordance with section 6 of Executive Order 13132, this rule does not have sufficient federalism implications to warrant the preparation of a federalism summary impact statement.

E. Paperwork Reduction Act

An agency may not conduct or sponsor, and a person is not required to respond to, a collection of information unless it displays a valid control number assigned by OMB. The collections of information for the Global Entry and SENTRI applications are approved by OMB in accordance with the Paperwork Reduction Act (44 U.S.C. 3507) under control number 1651-0121.⁵⁰ The changes contained in these regulations under 8 CFR part 235 revise the collection of information by requiring electronic submission of the SENTRI application and eliminating paper Form 823S. Additionally, this regulation will require a minor applying for membership in either the Global Entry or SENTRI trusted traveler program whose one or more parents or legal guardians are already a participant of the same program to submit his or her parents' or legal guardians' names and trusted traveler numbers.

⁵⁰ The changes to the NEXUS program are exempt from the PRA requirements pursuant to 8 U.S.C. 1753(c).

OMB-approved collection 1651-0121 will be amended to reflect Global Entry and SENTRI information collections for minor applicants. CBP estimates that this rule will result in an additional two-minute time burden on minors applying for membership in either the Global Entry or SENTRI trusted traveler program whose one or more parents or legal guardians is already a participant of the same program to submit his or her parents' or legal guardians' names and trusted traveler numbers. CBP estimates that this will affect 3,051 minor Global Entry applicants and 772 minor SENTRI applicants annually and result in an additional 127 burden hours.

This new information collection requirement will result in the following revision of additional burden hours to the SENTRI information collection:

Estimated number of respondents annually: 772.

Estimated average annual burden per respondent: 0.033 hours.

Estimated total annual reporting burden: 26 hours.

The addition of these burden hours will revise the total burden associated with the SENTRI application to 111,947.

These new requirements result in the following revision of additional burden hours for the Global Entry information collection:

Estimated number of respondents annually: 3,051.

Estimated average annual burden per respondent: 0.033 hours.

Estimated total annual reporting burden: 102 hours.

The addition of these burden hours will revise the total burden associated with the Global Entry application to 1,626,823.

This rule changes the SENTRI fee from $122.25 to $120 for adults and certain minors and reduces the fee for minors from the fee currently applicable under the family option plan to zero when one or more parents or legal guardians is a participant in or concurrently applying for SENTRI. CBP is also requiring that the entire fee be paid when submitting an application. Originally, renewing, and prospective SENTRI participants were only required to pay a $25 application fee when submitting a SENTRI program application and an applicant was not responsible for the remaining fee components, including the $14.50 FBI fingerprinting fee and the $82.75 DCL fee, if they did not receive a conditional approval. Under this final rule, a SENTRI applicant who does not receive a conditional approval will see an $95 increase in price ([$120 new SENTRI fee − $25 old SENTRI application fee] = $95). The total annual estimated cost associated with the SENTRI fee that is currently approved by OMB under control number 1651-0121 is approximately $15,600,000. Pursuant to this rule, the total annual estimated costs associated with the SENTRI fee could be $15,511,200, which reflects a decrease of $88,800.⁵¹

⁵¹ As stated in footnote 43, CBP's original estimate in the NPRM for this rule erroneously included the FBI fingerprinting fee of $14.50 in the amount paid by SENTRI applicants before conditional approval. However, the FBI fingerprinting fee is actually collected after a SENTRI applicant has been or not been conditionally approved. Therefore, CBP adjusted these estimates since the NPRM and now for the final rule these estimates correctly reflect that SENTRI applicants who are not conditionally approved will experience their fee increase from $25 to $120 under the rule as opposed to the original estimate of a fee increase from $39.50 to $120. CBP's trusted traveler databases do not track which participants have family members that also participate in the program and will be exempt from the fee due to family membership fee caps. As such, this may not reflect the actual costs of the SENTRI fee to respondents.

This final rule also changes the Global Entry fee from $100 to $120 for adults and certain minors (8 CFR 235.12 and 8 CFR 103.7) and reduces the fee for certain minors from $100 to zero when one or more parents or legal guardians is a participant of or concurrently applying for Global Entry (8 CFR 235.12 and 8 CFR 103.7). The total annual estimated cost associated with Global Entry that is currently approved by OMB under control number 1651-0121 is approximately $252,700,000. Pursuant to this rule, the total annual estimated costs associated with the Global Entry fee could be $292,809,840, which reflects an increase of $40,109,840.⁵²

⁵² CBP's trusted traveler databases do not track which participants have family members that also participate in the program and will be exempt from the fee due to family membership fee exemptions. As such, this may not reflect the actual costs of the Global Entry fee to respondents.

F. Privacy

CBP generally requires travelers to apply for membership in a CBP trusted traveler program, such as Global Entry and NEXUS, through the TTP System website (https://ttp.cbp.dhs.gov/). CBP uses the cloud-based Trusted Traveler Program (TTP) Systems for online application to CBP programs; and uses the General Services Administration (GSA) Login.gov portal for identity authentication. CBP maintains trusted traveler information in the Global Enrollment System (GES), Trusted Traveler Program (TTP) Systems, and DHS Automated Biometric Identification System (IDENT). The personally identifiable information provided by the applicants, including the fingerprint biometrics taken at the time of the personal interview, may be shared with other government and law enforcement agencies as well as foreign governments in accordance with applicable laws and regulations, including as described in the Privacy Act system of records notice (SORN) for Trusted and Registered Traveler programs (Department of Homeland Security/U.S. Customs and Border Protection—002 Trusted and Registered Traveler System of Records, 85 FR 14214 (March 11, 2020), available at https://www.federalregister.gov/documents/2020/03/11/2020-04982/privacy-act-of-1974-system-of-records and http://www.dhs.gov/system-records-notices-sorns. (This SORN previously referred to GES instead of Trusted and Registered Traveler systems and still covers what is elsewhere referred to as GES.) CBP provides additional information about GES and its CBP trusted traveler programs in its Privacy Impact Assessment (PIA) for GES, DHS/CBP/PIA—002 Global Enrollment System, and subsequent updates, available at https://www.dhs.gov/publication/global-enrollment-system-ges. Applicants' biometric information (fingerprints, photographs) submitted as part of a TTP application are stored in the DHS biometric repository, DHS Automated Biometric Identification System (IDENT). DHS has provided information about IDENT in the Privacy Impact Assessment for the Automated Biometric Identification System (IDENT), DHS/NPPD/PIA—002 (Dec. 7, 2012), and Appendices, available at https://www.dhs.gov/publication/dhsnppdpia-002-automated-biometric-identification-system.

List of Subjects

8 CFR Part 103

Administrative practice and procedure, Authority delegations (Government agencies), Fees, Freedom of information, Immigration, Privacy, Reporting and recordkeeping requirements, Surety bonds.

8 CFR Part 235

Administrative practice and procedure, Aliens, Immigration, Reporting and recordkeeping requirements.

Amendments to the Regulations

For the reasons set forth in the preamble, CBP is amending 8 CFR parts 103 and 235 as set forth below.

PART 103—IMMIGRATION BENEFITS; BIOMETRIC REQUIREMENTS; AVAILABILITY OF RECORDS

1. The authority citation for part 103 is revised to read as follows:

Authority: 5 U.S.C. 301, 552, 552a; 8 U.S.C. 1101, 1103, 1304, 1356, 1365b, 1372; 31 U.S.C. 9701; 48 U.S.C. 1806; Public Law 107-296, 116 Stat. 2135 (6 U.S.C. 1 et seq.); E.O. 12356, 47 FR 14874, 15557, 3 CFR, 1982 Comp., p. 166; 8 CFR part 2, Pub. L. 112-54, 125 Stat 550; 31 CFR part 223.

2. Amend § 103.7 as follows:

a. Remove and reserve paragraph (d)(1);

b. Add paragraph (d)(7)(vii);

c. Revise paragraph (d)(13);

d. Add paragraph (d)(16).

The additions and revision read as follows:

§ 103.7 Fees.

* * * * *

(d) * * *

(7) * * *

(vii) For the SENTRI program, see paragraph (d)(16) of this section.

* * * * *

(13) Global Entry. For filing an application for Global Entry—$120. Minors under the age of 18 who apply to the Global Entry program concurrently with a parent or legal guardian, or whose parent or legal guardian is already a participant of Global Entry, are exempt from payment of the application fee.

* * * * *

(16) SENTRI program. For filing an application for the SENTRI program—$120. Minors under the age of 18 who apply to the SENTRI program concurrently with a parent or legal guardian, or whose parent or legal guardian is already a participant of SENTRI, are exempt from payment of the application fee. Registration of one vehicle for use in the SENTRI lanes is included in the $120 application fee and may be done during the initial application or renewal process If an applicant or participant wishes to register more than one vehicle for use in the SENTRI lanes, or the participant registers any vehicle after the initial application or renewal process, that applicant or participant will be assessed an additional fee of $42 for each vehicle.

PART 235—INSPECTION OF PERSONS APPLYING FOR ADMISSION

3. The authority citation for part 235 is revised to read as follows:

Authority: 6 U.S.C. 218 and note; 8 U.S.C. 1101 and note, 1103, 1158, 1182, 1183, 1185 (pursuant to E.O. 13323, 69 FR 241, 3 CFR, 2004 Comp., p.278), 1185 note, 1201, 1224, 1225, 1226, 1228, 1365a note, 1365b, 1379, 1731-32; 48 U.S.C 1806 and note; Pub. L. 115-218.

4. In § 235.7, revise the section heading and redesignate paragraphs (a)(1)(ii) through (iv) as paragraphs (a)(1)(iii) through (v) and add new paragraph (a)(1)(ii).

The revision and addition read as follows:

§ 235.7 Automated inspection services (PORTPASS).

(a) * * *

(1) * * *

(i) * * *

(ii) SENTRI program. Although the SENTRI program is a PORTPASS program, all the parameters of the SENTRI program, including the eligibility requirements, application procedures, redress procedures, registration of vehicles, use of dedicated commuter lanes, and fee requirements are specified in § 235.14. For purposes of the SENTRI program, § 235.14 supersedes the provisions of this section.

* * * * *

5. Amend § 235.12 as follows:

a. Revise paragraphs (a), (c), (d)(2) and (3), (e)(1), (g), (h), the paragraph (j) heading, and paragraphs (j)(2) introductory text, (j)(4), and (k); and

b. Remove paragraph (l).

The revisions read as follows:

§ 235.12 Global Entry program.

(a) Program description. The Global Entry program is a voluntary international trusted traveler program consisting of an integrated passenger processing system that facilitates the movement of pre-approved, low-risk, air travelers by providing dedicated CBP processing at specified airports. In order to participate, a person must meet the eligibility requirements specified in this section, apply in advance, undergo vetting by CBP, and be accepted into the program. The Global Entry program allows participants dedicated CBP processing at selected airports identified by CBP at www.cbp.gov. Participants in the Global Entry program may also take advantage of certain benefits of the Secure Electronic Network for Travelers Rapid Inspection (SENTRI) and NEXUS programs. Please see http://www.cbp.gov for additional information. Participants will be processed through the use of CBP-approved technology that will include the use of biometrics to validate identity and to perform enforcement queries.

* * * * *

(c) Participating airports. The Global Entry program allows participants dedicated CBP processing at the locations identified at www.cbp.gov. Expansions of the Global Entry program to new airports will be announced by publication in the Federal Register and at www.cbp.gov.

(d) * * *

(2) Except for certain minors, all applicants must pay the non-refundable fee in the amount set forth at 8 CFR 103.7(d)(13) for “Global Entry.” Minors under the age of 18 who apply to the Global Entry program concurrently with a parent or legal guardian, or whose parent or legal guardian is already a participant of Global Entry, are exempt from payment of the applicable fee. The fee is to be paid to CBP at the time of application through the online TTP System, which can be found through www.cbp.gov, or other CBP-approved process.

(3) Every applicant accepted into Global Entry is accepted for a period of 5 years provided participation is not terminated by CBP prior to the end of the 5-year period. Each applicant may apply to renew participation up to one year prior to the close of the participation period.

* * * * *

(e) * * *

(1) After submitting the application, conditionally approved applicants will be notified by CBP that they need to undergo a personal interview.

* * * * *

(g) Arrival procedures. In order to utilize the Global Entry program, each participant must:

(1) Proceed to Global Entry Processing and follow all CBP instructions; and

(2) Proceed to the nearest open primary inspection station if CBP determines it is appropriate.

(h) Application for entry, examination, and inspection. Each successful use of Global Entry constitutes a separate and completed inspection and application for entry by the participant on the date that Global Entry is used. Global Entry participants may be subject to further CBP examination and inspection at any time during the arrival process.

* * * * *

(j) Denial and removal. * * *

(2) A Global Entry participant may be removed from the program for any of the following reasons:

* * * * *

(4) An applicant or participant denied or removed will not receive a refund, in whole or in part, of his or her application processing fee.

(k) Redress. An individual whose application is denied or who is removed from the program has two possible methods of redress. These processes do not create or confer any legal right, privilege or benefit on the applicant or participant, and are wholly discretionary on the part of CBP. The methods of redress are:

(1) DHS Traveler Redress Inquiry Program (DHS TRIP). The applicant/participant may choose to initiate the redress process through DHS Traveler Redress Program (DHS TRIP). An applicant/participant seeking redress may obtain the necessary forms and information to initiate the process on the DHS TRIP website, or by contacting DHS TRIP by mail at the address on the DHS TRIP website.

(2) Ombudsman. Applicants (including applicants who were not scheduled for an interview at an enrollment center) and participants may contest a denial or removal by submitting a reconsideration request to the CBP Trusted Traveler Ombudsman through the online TTP System or other CBP-approved process.

6. Add § 235.14 to read as follows:

§ 235.14 SENTRI program.

(a) Program description. The Secure Electronic Network for Travelers Rapid Inspection (SENTRI) trusted traveler program is a voluntary program that allows certain pre-approved, low-risk travelers dedicated processing at specified land border ports along the U.S.-Mexico border. In order to participate, a person must meet the eligibility requirements specified in this section, apply in advance, undergo vetting by CBP, and be accepted into the program. A SENTRI participant will be issued a Radio Frequency Identification (RFID) card or other CBP-approved document that grants the individual access to specific, dedicated primary lanes (SENTRI lanes). These lanes are identified at http://www.cbp.gov. A SENTRI participant may utilize a vehicle in the dedicated SENTRI lanes into the United States from Mexico only if the vehicle is approved by CBP for such purpose. Participants in the SENTRI program may also be able to take advantage of certain benefits of the Global Entry and NEXUS programs. Please see http://www.cbp.gov for additional information.

(b) Program eligibility criteria—(1) Eligible individuals. Any individual may apply to participate in the SENTRI program absent any of the disqualifying factors described in paragraph (b)(2) of this section. Persons under the age of 18 must have the consent of a parent or legal guardian to participate in the SENTRI program and provide proof of such consent in accordance with CBP instructions.

(2) Disqualifying factors. An individual is ineligible to participate in the SENTRI program if CBP, at its sole discretion, determines that the individual presents a potential risk for terrorism, criminality (such as smuggling), or CBP is unable to establish that the applicant can be considered low-risk. This risk determination will be based in part upon an applicant's ability to demonstrate past compliance with laws, regulations, and policies. Reasons why an applicant may not qualify for participation include:

(i) The applicant provides false or incomplete information on his or her application;

(ii) The applicant has been arrested for, or convicted of, any criminal offense or has pending criminal charges or outstanding warrants in any country;

(iii) The applicant has been found in violation of any customs, immigration, or agriculture regulations, procedures, or laws in any country;

(iv) The applicant is the subject of an investigation by any Federal, State or local law enforcement agency in any country;

(v) The applicant is inadmissible to the United States under applicable immigration laws or has, at any time, been granted a waiver of inadmissibility or parole;

(vi) The applicant is known or suspected of being or having been engaged in conduct constituting, in preparation for, in aid of, or related to terrorism; or

(vii) The applicant cannot satisfy CBP of his or her low-risk status or meet other program requirements.

(c) Program application. (1) Each applicant must complete and submit the program application electronically through an approved application process as determined by CBP. The application and application instructions for the SENTRI program are available at www.cbp.gov.

(2) During the application process, an applicant must provide information on any vehicle that will utilize the SENTRI lanes. The vehicle must be approved by CBP to utilize the dedicated SENTRI lanes. Registration of one vehicle for use in the SENTRI lanes is included in the application fee provided the vehicle is registered at the time of initial application or at renewal. If any vehicle is registered after the initial application or renewal is filed, or if an applicant or participant wishes to register more than one vehicle for use in the SENTRI lanes, they will be assessed an additional fee in the amount set forth at 8 CFR 103.7(d)(16). The fee is to be paid to CBP at the time the vehicle is registered through the online TTP System, which can be found at www.cbp.gov, or other CBP-approved process.

(3) Except for certain minors, all other applicants must pay the non-refundable fee in the amount set forth at 8 CFR 103.7(d)(16) for the “SENTRI program”. Minors under the age of 18 who apply concurrently with a parent or legal guardian, or whose parent or legal guardian is already a participant of SENTRI, are exempt from payment of the applicable fee. The fee is to be paid to CBP at the time of application through the TTP System or other CBP-approved process.

(4) Every applicant accepted into the SENTRI program is accepted for a period of 5 years provided participation is not terminated by CBP prior to the end of the 5-year period. Each applicant may apply to renew participation up to one year prior to the close of the participation period.

(5) Each applicant may check the status of his or her application through his or her account with the application system in use for the SENTRI program.

(d) Interview and enrollment. (1) After submitting the application, conditionally approved applicants will be notified by CBP to schedule a personal interview.

(2) Each applicant must provide CBP the original of the identification document specified in his or her application. During the interview, CBP will collect biometric information from the applicant (e.g., a set of fingerprints and/or digital photograph) to conduct background checks or as otherwise required for participation in the program.

(3) CBP may provide for alternative enrollment procedures, as necessary, to facilitate enrollment and ensure an applicant's eligibility for the program.

(e) SENTRI lanes. A SENTRI participant is issued a Radio Frequency Identification (RFID) card or other CBP-approved document. This RFID card or other CBP-approved document will grant the participant access to specific, dedicated primary lanes into the United States from Mexico (SENTRI lanes). These lanes are identified at http://www.cbp.gov. A SENTRI participant may utilize a vehicle in the dedicated SENTRI lanes into the United States from Mexico only if the vehicle is approved by CBP for such purpose.

(f) Denial and removal. (1) If an applicant is denied participation in the SENTRI program, or an applicant's or participant's vehicle is not approved for use in the SENTRI lanes, CBP will notify the applicant of the denial, and the reasons for the denial. CBP will also provide instructions regarding how to proceed if the applicant wishes to seek additional information as to the reason for the denial.

(2) A SENTRI participant may be removed from the program for any of the following reasons:

(i) CBP, at its sole discretion, determines that the participant has engaged in any disqualifying activities as outlined in paragraph (b)(2) of this section;

(ii) CBP, at its sole discretion, determines that the participant provided false information in the application and/or during the application process;

(iii) CBP, at its sole discretion, determines that the participant failed to follow the terms, conditions and requirements of the program;

(iv) CBP determines that the participant has been arrested or convicted of a crime or otherwise determines, at its sole discretion, that the participant no longer meets the program eligibility criteria; or

(v) CBP, at its sole discretion, determines that such action is otherwise necessary.

(3) CBP will notify the participant of their removal from the program in writing. Such removal is effective immediately.

(4) An applicant or participant denied or removed will not receive a refund, in whole or in part, of his or her application fee.

(g) Redress. An individual whose application is denied or who is removed from the program or whose vehicle is not approved for use in the program has two possible methods for redress. These processes do not create or confer any legal right, privilege, or benefit on the applicant or participant, and are wholly discretionary on the part of CBP. The methods of redress are:

(1) DHS Traveler Redress Inquiry Program (DHS TRIP). The applicant/participant may choose to initiate the redress process through DHS TRIP. An applicant/participant seeking redress may obtain the necessary forms and information to initiate the process on the DHS TRIP website, or by contacting DHS TRIP by mail at the address on this website.

(2) Ombudsman. Applicants and participants may contest a denial or removal from the program by submitting a reconsideration request to the CBP Trusted Traveler Ombudsman through the TTP System or other CBP-approved process.

Alejandro N. Mayorkas,
Secretary of Homeland Security.

[FR Doc. 2024-06851 Filed 4-1-24; 8:45 am]

BILLING CODE 9111-14-P